DEPARTMENT OF COMMERCE

National Oceanic and Atmospheric Administration

50 CFR Part 229

[Docket No. 210730-0153]

RIN 0648-BK40

List of Fisheries for 2022

AGENCY: National Marine Fisheries Service (NMFS), National Oceanic and Atmospheric Administration (NOAA), Commerce.

ACTION: Proposed rule, request for comment.

SUMMARY: The National Marine Fisheries Service (NMFS) publishes its proposed List of Fisheries (LOF) for 2022, as required by the Marine Mammal Protection Act (MMPA). The LOF for 2022 reflects new information on interactions between commercial fisheries and marine mammals. NMFS must classify each commercial fishery on the LOF into one of three categories under the MMPA based upon the level of mortality and serious injury of marine mammals that occurs incidental to each fishery. The classification of a fishery on the LOF determines whether participants in that fishery are subject to certain provisions of the MMPA, such as registration, observer coverage, and take reduction plan (TRP) requirements.

DATES: Comments must be received by September 8, 2021.

ADDRESSES: You may submit comments on this document, identified by NOAA-NMFS-2021-0020, by either of the following methods:

Electronic Submission: Submit all electronic public comments via the Federal e-Rulemaking Portal. Go to https://www.regulations.gov and enter NOAA-NMFS-2021-0020 in the Search box. Click on the “Comment” icon, complete the required fields, and enter or attach your comments.

Mail: Submit written comments to Chief, Marine Mammal and Sea Turtle Conservation Division, Office of Protected Resources, NMFS, 1315 East-West Highway, Silver Spring, MD 20910.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter N/A in the required fields if you wish to remain anonymous).

FOR FURTHER INFORMATION CONTACT: Jaclyn Taylor, Office of Protected Resources, 301-427-8402; Allison Rosner, Greater Atlantic Region, 978-281-9328; Jessica Powell, Southeast Region, 727-824-5312; Dan Lawson, West Coast Region, 206-526-4740; Suzie Teerlink, Alaska Region, 907-586-7240; Diana Kramer, Pacific Islands Region, 808-725-5167. Individuals who use a telecommunications device for the hearing impaired may call the Federal Information Relay Service at 1-800-877-8339 between 8 a.m. and 4 p.m. Eastern time, Monday through Friday, excluding Federal holidays.

SUPPLEMENTARY INFORMATION:

What is the List of Fisheries?

Section 118 of the MMPA requires NMFS to place all U.S. commercial fisheries into one of three categories based on the level of incidental mortality and serious injury of marine mammals occurring in each fishery (16 U.S.C. 1387(c)(1)). The classification of a fishery on the LOF determines whether participants in that fishery may be required to comply with certain provisions of the MMPA, such as registration, observer coverage, and take reduction plan requirements. NMFS must reexamine the LOF annually, considering new information in the Marine Mammal Stock Assessment Reports (SARs) and other relevant sources, and publish in the Federal Register any necessary changes to the LOF after notice and opportunity for public comment (16 U.S.C. 1387 (c)(1)(C)).

How does NMFS determine in which category a fishery is placed?

The definitions for the fishery classification criteria can be found in the implementing regulations for section 118 of the MMPA (50 CFR 229.2). The criteria are also summarized here.

Fishery Classification Criteria

The fishery classification criteria consist of a two-tiered, stock-specific approach that first addresses the total impact of all fisheries on each marine mammal stock and then addresses the impact of individual fisheries on each stock. This approach is based on consideration of the rate, in numbers of animals per year, of incidental mortalities and serious injuries of marine mammals due to commercial fishing operations relative to the potential biological removal (PBR) level for each marine mammal stock. The MMPA (16 U.S.C. 1362 (20)) defines the PBR level as the maximum number of animals, not including natural mortalities, that may be removed from a marine mammal stock while allowing that stock to reach or maintain its optimum sustainable population. This definition can also be found in the implementing regulations for section 118 of the MMPA (50 CFR 229.2).

Tier 1: Tier 1 considers the cumulative fishery mortality and serious injury for a particular stock. If the total annual mortality and serious injury of a marine mammal stock, across all fisheries, is less than or equal to 10 percent of the PBR level of the stock, all fisheries interacting with the stock will be placed in Category III (unless those fisheries interact with other stock(s) for which total annual mortality and serious injury is greater than 10 percent of PBR). Otherwise, these fisheries are subject to the next tier (Tier 2) of analysis to determine their classification.

Tier 2: Tier 2 considers fishery-specific mortality and serious injury for a particular stock.

Category I: Annual mortality and serious injury of a stock in a given fishery is greater than or equal to 50 percent of the PBR level (i.e., frequent incidental mortality and serious injury of marine mammals).

Category II: Annual mortality and serious injury of a stock in a given fishery is greater than 1 percent and less than 50 percent of the PBR level (i.e., occasional incidental mortality and serious injury of marine mammals).

Category III: Annual mortality and serious injury of a stock in a given fishery is less than or equal to 1 percent of the PBR level (i.e., a remote likelihood of or no known incidental mortality and serious injury of marine mammals).

Additional details regarding how the categories were determined are provided in the preamble to the final rule implementing section 118 of the MMPA (60 FR 45086; August 30, 1995).

Because fisheries are classified on a per-stock basis, a fishery may qualify as one category for one marine mammal stock and another category for a different marine mammal stock. A fishery is typically classified on the LOF at its highest level of classification (e.g., a fishery qualifying for Category III for one marine mammal stock and for Category II for another marine mammal stock will be listed under Category II). Stocks driving a fishery's classification are denoted with a superscript “1” in Tables 1 and 2.

Other Criteria That May Be Considered

The tier analysis requires a minimum amount of data, and NMFS does not have sufficient data to perform a tier analysis on certain fisheries. Therefore, NMFS has classified certain fisheries by analogy to other fisheries that use similar fishing techniques or gear that are known to cause mortality or serious injury of marine mammals, or according to factors discussed in the final LOF for 1996 (60 FR 67063; December 28, 1995) and listed in the regulatory definition of a Category II fishery. In the absence of reliable information indicating the frequency of incidental mortality and serious injury of marine mammals by a commercial fishery, NMFS will determine whether the incidental mortality or serious injury is “occasional” by evaluating other factors such as fishing techniques, gear used, methods used to deter marine mammals, target species, seasons and areas fished, qualitative data from logbooks or fishermen reports, stranding data, and the species and distribution of marine mammals in the area, or at the discretion of the Assistant Administrator for Fisheries (50 CFR 229.2).

Further, eligible commercial fisheries not specifically identified on the LOF are deemed to be Category II fisheries until the next LOF is published (50 CFR 229.2).

How does NMFS determine which species or stocks are included as incidentally killed or injured in a fishery?

The LOF includes a list of marine mammal species and/or stocks incidentally killed or injured in each commercial fishery. The list of species and/or stocks incidentally killed or injured includes “serious” and “non-serious” documented injuries as described later in the List of Species and/or Stocks Incidentally Killed or Injured in the Pacific Ocean and List of Species and/or Stocks Incidentally Killed or Injured in the Atlantic Ocean, Gulf of Mexico, and Caribbean sections. To determine which species or stocks are included as incidentally killed or injured in a fishery, NMFS annually reviews the information presented in the current SARs and injury determination reports. SARs are brief reports summarizing the status of each stock of marine mammals occurring in waters under U.S. jurisdiction, including information on the identity and geographic range of the stock, population statistics related to abundance, trend, and annual productivity, notable habitat concerns, and estimates of human-caused mortality and serious injury (M/SI) by source. The SARs are based upon the best available scientific information and provide the most current and inclusive information on each stock's PBR level and level of interaction with commercial fishing operations. The best available scientific information used in the SARs and reviewed for the 2022 LOF generally summarizes data from 2014-2018. NMFS also reviews other sources of new information, including injury determination reports, bycatch estimation reports, observer data, logbook data, stranding data, disentanglement network data, fishermen self-reports (i.e., MMPA mortality/injury reports), and anecdotal reports from that time period. In some cases, more recent information may be available and used in the LOF.

For fisheries with observer coverage, species or stocks are generally removed from the list of marine mammal species and/or stocks incidentally killed or injured if no interactions are documented in the 5-year timeframe summarized in that year's LOF. For fisheries with no observer coverage and for observed fisheries with evidence indicating that undocumented interactions may be occurring (e.g., fishery has low observer coverage and stranding network data include evidence of fisheries interactions that cannot be attributed to a specific fishery) species and stocks may be retained for longer than 5 years. For these fisheries, NMFS will review the other sources of information listed above and use its discretion to decide when it is appropriate to remove a species or stock.

Where does NMFS obtain information on the level of observer coverage in a fishery on the LOF?

The best available information on the level of observer coverage and the spatial and temporal distribution of observed marine mammal interactions is presented in the SARs. Data obtained from the observer program and observer coverage levels are important tools in estimating the level of marine mammal mortality and serious injury in commercial fishing operations. Starting with the 2005 SARs, each Pacific and Alaska SAR includes an appendix with detailed descriptions of each Category I and II fishery on the LOF, including the observer coverage in those fisheries. For Atlantic fisheries, this information can be found in the LOF Fishery Fact Sheets. The SARs do not provide detailed information on observer coverage in Category III fisheries because, under the MMPA, Category III fisheries are not required to accommodate observers aboard vessels due to the remote likelihood of mortality and serious injury of marine mammals. Fishery information presented in the SARs' appendices and other resources referenced during the tier analysis may include: Level of observer coverage; target species; levels of fishing effort; spatial and temporal distribution of fishing effort; characteristics of fishing gear and operations; management and regulations; and interactions with marine mammals. Copies of the SARs are available on the NMFS Office of Protected Resources website at: https://www.fisheries.noaa.gov/national/marine-mammal-protection/marine-mammal-stock-assessment-reports-region. Information on observer coverage levels in Category I, II, and III fisheries can be found in the fishery fact sheets on the NMFS Office of Protected Resources' website: https://www.fisheries.noaa.gov/national/marine-mammal-protection/list-fisheries-summary-tables. Additional information on observer programs in commercial fisheries can be found on the NMFS National Observer Program's website: https://www.fisheries.noaa.gov/national/fisheries-observers/national-observer-program.

How do I find out if a specific fishery is in Category I, II, or III?

The LOF includes three tables that list all U.S. commercial fisheries by Category. Table 1 lists all of the commercial fisheries in the Pacific Ocean (including Alaska); Table 2 lists all of the commercial fisheries in the Atlantic Ocean, Gulf of Mexico, and Caribbean; and Table 3 lists all U.S. authorized commercial fisheries on the high seas. A fourth table, Table 4, lists all commercial fisheries managed under applicable TRPs or take reduction teams (TRT).

Are high seas fisheries included on the LOF?

Beginning with the 2009 LOF, NMFS includes high seas fisheries in Table 3 of the LOF, along with the number of valid High Seas Fishing Compliance Act (HSFCA) permits in each fishery. As of 2004, NMFS issues HSFCA permits only for high seas fisheries analyzed in accordance with the National Environmental Policy Act (NEPA) and the Endangered Species Act (ESA). The authorized high seas fisheries are broad in scope and encompass multiple specific fisheries identified by gear type. For the purposes of the LOF, the high seas fisheries are subdivided based on gear type (e.g., trawl, longline, purse seine, gillnet, troll, etc.) to provide more detail on composition of effort within these fisheries. Many fisheries operate in both U.S. waters and on the high seas, creating some overlap between the fisheries listed in Tables 1 and 2 and those in Table 3. In these cases, the high seas component of the fishery is not considered a separate fishery, but an extension of a fishery operating within U.S. waters (listed in Table 1 or 2). NMFS designates those fisheries in Tables 1, 2, and 3 with an asterisk (*) after the fishery's name. The number of HSFCA permits listed in Table 3 for the high seas components of these fisheries operating in U.S. waters does not necessarily represent additional effort that is not accounted for in Tables 1 and 2. Many vessels/participants holding HSFCA permits also fish within U.S. waters and are included in the number of vessels and participants operating within those fisheries in Tables 1 and 2.

HSFCA permits are valid for 5 years, during which time Fishery Management Plans (FMPs) can change. Therefore, some vessels/participants may possess valid HSFCA permits without the ability to fish under the permit because it was issued for a gear type that is no longer authorized under the most current FMP. For this reason, the number of HSFCA permits displayed in Table 3 is likely higher than the actual U.S. fishing effort on the high seas. For more information on how NMFS classifies high seas fisheries on the LOF, see the preamble text in the final 2009 LOF (73 FR 73032; December 1, 2008). Additional information about HSFCA permits can be found at https://www.fisheries.noaa.gov/permit/high-seas-fishing-permits.

Where can I find specific information on fisheries listed on the LOF?

Starting with the 2010 LOF, NMFS developed summary documents, or fishery fact sheets, for each Category I and II fishery on the LOF. These fishery fact sheets provide the full history of each Category I and II fishery, including: When the fishery was added to the LOF; the basis for the fishery's initial classification; classification changes to the fishery; changes to the list of species and/or stocks incidentally killed or injured in the fishery; fishery gear and methods used; observer coverage levels; fishery management and regulation; and applicable TRPs or TRTs, if any. These fishery fact sheets are updated after each final LOF and can be found under “How Do I Find Out if a Specific Fishery is in Category I, II, or III?” on the NMFS Office of Protected Resources' website: https://www.fisheries.noaa.gov/national/marine-mammal-protection/marine-mammal-protection-act-list-fisheries, linked to the “List of Fisheries Summary” table. NMFS is developing similar fishery fact sheets for each Category III fishery on the LOF. However, due to the large number of Category III fisheries on the LOF and the lack of accessible and detailed information on many of these fisheries, the development of these fishery fact sheets is taking significant time to complete. NMFS began posting Category III fishery fact sheets online with the LOF for 2016.

Am I required to register under the MMPA?

Owners of vessels or gear engaging in a Category I or II fishery are required under the MMPA (16 U.S.C. 1387(c)(2)), as described in 50 CFR 229.4, to register with NMFS and obtain a marine mammal authorization to lawfully take non-endangered and non-threatened marine mammals incidental to commercial fishing operations. Owners of vessels or gear engaged in a Category III fishery are not required to register with NMFS or obtain a marine mammal authorization.

How do I register, renew and receive my Marine Mammal Authorization Program authorization certificate?

NMFS has integrated the MMPA registration process, implemented through the Marine Mammal Authorization Program (MMAP), with existing state and Federal fishery license, registration, or permit systems for Category I and II fisheries on the LOF. Participants in these fisheries are automatically registered under the MMAP and are not required to submit registration or renewal materials.

In the Pacific Islands, West Coast, and Alaska regions, NMFS will issue vessel or gear owners an authorization certificate via U.S. mail or with their state or Federal license or permit at the time of issuance or renewal. In the Greater Atlantic and Southeast Regions, NMFS will issue vessel or gear owners an authorization certificate via U.S. mail automatically at the beginning of each calendar year.

Vessel or gear owners who participate in fisheries in these regions and have not received authorization certificates by the beginning of the calendar year, or with renewed fishing licenses, must contact the appropriate NMFS Regional Office (see FOR FURTHER INFORMATION CONTACT). Authorization certificates may also be obtained by visiting the MMAP website https://www.fisheries.noaa.gov/national/marine-mammal-protection/marine-mammal-authorization-program#obtaining-a-marine-mammal-authorization-certificate.

The authorization certificate, or a copy, must be on board the vessel while it is operating in a Category I or II fishery, or for non-vessel fisheries, in the possession of the person in charge of the fishing operation (50 CFR 229.4(e)). Although efforts are made to limit the issuance of authorization certificates to only those vessel or gear owners that participate in Category I or II fisheries, not all state and Federal license or permit systems distinguish between fisheries as classified by the LOF. Therefore, some vessel or gear owners in Category III fisheries may receive authorization certificates even though they are not required for Category III fisheries.

Individuals fishing in Category I and II fisheries for which no state or Federal license or permit is required must register with NMFS by contacting their appropriate Regional Office (see ADDRESSES).

Am I required to submit reports when I kill or injure a marine mammal during the course of commercial fishing operations?

In accordance with the MMPA (16 U.S.C. 1387(e)) and 50 CFR 229.6, any vessel owner or operator, or gear owner or operator (in the case of non-vessel fisheries), participating in a fishery listed on the LOF must report to NMFS all incidental mortalities and injuries of marine mammals that occur during commercial fishing operations, regardless of the category in which the fishery is placed (I, II, or III) within 48 hours of the end of the fishing trip or, in the case of non-vessel fisheries, fishing activity. “Injury” is defined in 50 CFR 229.2 as a wound or other physical harm. In addition, any animal that ingests fishing gear or any animal that is released with fishing gear entangling, trailing, or perforating any part of the body is considered injured, regardless of the presence of any wound or other evidence of injury, and must be reported.

Mortality/injury reporting forms and instructions for submitting forms to NMFS can be found at: https://www.fisheries.noaa.gov/national/marine-mammal-protection/marine-mammal-authorization-program#reporting-a-death-or-injury-of-a-marine-mammal-during-commercial-fishing-operations or by contacting the appropriate regional office (see FOR FURTHER INFORMATION CONTACT). Forms may be submitted via any of the following means: (1) Online using the electronic form; (2) emailed as an attachment to nmfs.mireport@noaa.gov; (3) faxed to the NMFS Office of Protected Resources at 301-713-0376; or (4) mailed to the NMFS Office of Protected Resources (mailing address is provided on the postage-paid form that can be printed from the web address listed above). Reporting requirements and procedures are found in 50 CFR 229.6.

Am I required to take an observer aboard my vessel?

Individuals participating in a Category I or II fishery are required to accommodate an observer aboard their vessel(s) upon request from NMFS. MMPA section 118 states that the Secretary is not required to place an observer on a vessel if the facilities for quartering an observer or performing observer functions are so inadequate or unsafe that the health or safety of the observer or the safe operation of the vessel would be jeopardized; thereby authorizing the exemption of vessels too small to safely accommodate an observer from this requirement. However, U.S. Atlantic Ocean, Caribbean, or Gulf of Mexico large pelagics longline vessels operating in special areas designated by the Pelagic Longline Take Reduction Plan implementing regulations (50 CFR 229.36(d)) will not be exempted from observer requirements, regardless of their size. Observer requirements are found in 50 CFR 229.7.

Am I required to comply with any marine mammal TRP regulations?

Table 4 provides a list of fisheries affected by TRPs and TRTs. TRP regulations are found at 50 CFR 229.30 through 229.37. A description of each TRT and copies of each TRP can be found at: https://www.fisheries.noaa.gov/national/marine-mammal-protection/marine-mammal-take-reduction-plans-and-teams. It is the responsibility of fishery participants to comply with applicable take reduction regulations.

Where can I find more information about the LOF and the MMAP?

Information regarding the LOF and the MMAP, including registration procedures and forms; current and past LOFs; descriptions of each Category I and II fishery and some Category III fisheries; observer requirements; and marine mammal mortality/injury reporting forms and submittal procedures; may be obtained at: https://www.fisheries.noaa.gov/national/marine-mammal-protection/marine-mammal-protection-act-list-fisheries, or from any NMFS Regional Office at the addresses listed below:

NMFS, Greater Atlantic Regional Fisheries Office, 55 Great Republic Drive, Gloucester, MA 01930-2298, Attn: Allison Rosner;

NMFS, Southeast Region, 263 13th Avenue South, St. Petersburg, FL 33701, Attn: Jessica Powell;

NMFS, West Coast Region, Long Beach Office, 501 W Ocean Blvd., Suite 4200, Long Beach, CA 90802-4213, Attn: Dan Lawson;

NMFS, Alaska Region, Protected Resources, P.O. Box 22668, 709 West 9th Street, Juneau, AK 99802, Attn: Suzie Teerlink; or

NMFS, Pacific Islands Regional Office, Protected Resources Division, 1845 Wasp Blvd., Building 176, Honolulu, HI 96818, Attn: Diana Kramer.

Sources of Information Reviewed for the 2022 LOF

NMFS reviewed the marine mammal incidental mortality and serious injury information presented in the SARs for all fisheries to determine whether changes in fishery classification are warranted. The SARs are based on the best scientific information available at the time of preparation, including the level of mortality and serious injury of marine mammals that occurs incidental to commercial fishery operations and the PBR levels of marine mammal stocks. The information contained in the SARs is reviewed by regional Scientific Review Groups (SRGs) representing Alaska, the Pacific (including Hawaii), and the U.S. Atlantic, Gulf of Mexico, and Caribbean. The SRGs were established by the MMPA to review the science that informs the SARs, and to advise NMFS on marine mammal population status, trends, and stock structure, uncertainties in the science, research needs, and other issues.

NMFS also reviewed other sources of new information, including marine mammal stranding and entanglement data, observer program data, fishermen self-reports, reports to the SRGs, conference papers, FMPs, and ESA documents.

The LOF for 2022 was based on, among other things, stranding data; fishermen self-reports; and SARs, primarily the 2020 SARs, which are based on data from 2014-2018. The SARs referenced in this LOF include: 2018 (84 FR 28489; June 19, 2019), 2019 (84 FR 65353; November 27, 2019), and draft 2020 (85 FR 78307; December 4, 2020). The SARs are available at: https://www.fisheries.noaa.gov/national/marine-mammal-protection/marine-mammal-stock-assessment-reports-region.

Summary of Changes to the LOF for 2022

The following summarizes changes to the LOF for 2022, including the classification of fisheries, fisheries listed, the estimated number of vessels/persons in a particular fishery, and the species and/or stocks that are incidentally killed or injured in a particular fishery. NMFS re-classifies one fishery in the LOF for 2022. Additionally, NMFS adds four fisheries to the LOF. NMFS also makes changes to the estimated number of vessels/persons and list of species and/or stocks killed or injured in certain fisheries. Many Category III fisheries on the LOF have never been described in the LOF. While detailed information describing each fishery on the LOF has been included within the SARs for some fisheries, a FMP, TRP, or by state agencies, general descriptive information is also included here to clearly define each fishery that is on the LOF. Since the 2016 LOF (80 FR 58427; September 29, 2015), NMFS has been developing Category III fishery fact sheets that are available online at: https://www.fisheries.noaa.gov/national/marine-mammal-protection/list-fisheries-summary-tables. NMFS is requesting public comment on the fisheries descriptions below to include as fact sheet content. The classifications and definitions of U.S. commercial fisheries for 2022 are identical to those provided in the LOF for 2021 with the changes discussed below. State and regional abbreviations used in the following paragraphs include: AK (Alaska), BSAI (Bering Sea, Aleutian Island), CA (California), Gulf of Alaska (GOA), HI (Hawaii), Maine Hawaiian Islands (MHI), OR (Oregon), WA (Washington), and WNA (Western North Atlantic).

Commercial Fisheries in the Pacific Ocean

Classification of Fisheries

NMFS proposes to reclassify the Category II AK Bering Sea, Aleutian Island (BSAI) rockfish trawl fishery to a Category III fishery. One killer whale (Gulf of Alaska, BSAI transient stock) mortality in 2012 was driving the Category II classification of this fishery. From 2014-2018, this fishery had 100 percent observer coverage, and no additional killer whale M/SI have been observed or reported in this timeframe for this fishery (Muto et al., 2021). Therefore, NMFS proposes to reclassify the AK BSAI rockfish trawl fishery from a Category II to a Category III fishery.

Addition of Fisheries

NMFS proposes to add the WA/OR/CA other groundfish pot fishery as a Category III fishery. This new Category III fishery includes pot fishing effort from the previously named Category III CA nearshore finfish live trap/hook-and-line fishery and other groundfish pot fishing effort (separate from the sablefish pot fishery) that is not currently included on the LOF.

The groundfish pot fishery (other than sablefish) in WA/OR/CA targets close to 100 different species that generally live on or near the bottom. There are over 60 different rockfish species, which includes widow, yellowtail, canary, chilipepper, yelloweye, and vermilion rockfish. Important species of flatfish include Dover sole, petrale sole, starry and arrowtooth flounder, and Pacific sanddab. Other target species include boccaccio, cowcod, thornyheads, and Pacific Ocean perch. Due to the variety of species, there is significant variation in the areas and depths where the gear is fished. Depths can range from 11-722 fathoms (20-1,300 meters). The locations where fishermen are allowed to fish are limited by federal and state-designated conservation areas (e.g., the Rockfish Conservation Area). The fishery operates year-round.

The traps can be either rectangular, conical or trapezoidal in shape. Conical traps are typically 36-72 inches (91-182 centimeters) in diameter. In California, the diameter limit is 92 inches (233 centimeters) maximum. All traps are between 28-32 inches (71-81 centimeters) in height. A destructive device capable of leaving an 8-inch (20 centimeter) in diameter opening is required. Line consists of a nylon or nylon poly-blend material of ⅜-⅝ inch diameter, attached to a string of pots/traps on one end, and a large polyball at the surface. The open access fishery uses 1-8 strings of 3-4 pots; the limited entry fishery uses 20-30 of these strings. Whether traps are used individually or in a string, it is mandatory that the surface end or terminal end be marked with a pole, flag, radar reflector, and a buoy. In California, the license number of the fisher is displayed on the polyball with an accompanying “B”. The gear must be attended to at least once every 7 days.

There are over 100 species managed under the Pacific Fishery Management Council's (PFMC) Pacific Coast Groundfish FMP. It outlines the areas, species, regulations, and the process that is used to make changes to the fishery. The plan also creates guidelines for the biennial process of setting harvest levels. The fishery is managed under two sectors; limited entry and open access. Both sectors generally share regulations applied to other groundfish fisheries such as, quotas, harvest guidelines, trip and landing limits, area restrictions, seasonal closures, and gear restrictions.

Access to the limited entry fishery requires a limited entry permit, in addition to gear endorsements required by the individual states. Specifically, there is a limited entry permit with a non-sablefish fixed gear endorsement. Individual vessel landing limits are enforced. Open access privileges are currently available to any fishermen with the required state gear endorsements, but catch quotas and area closures are more restrictive than the primary limited entry permit. Open access quotas vary based upon the area fished.

There are currently 68 participants in this fishery. In the Open Access fixed gear fishery, observer coverage rates during 2009-2018 ranged from 2-12 percent. Historically, there have been no documented marine mammal mortalities or injuries incidental to the components of this fishery. Therefore, NMFS proposes to add this fishery as a Category III fishery.

NMFS proposes to add the CA other crab/shellfish pot fishery as a Category III fishery. This new Category III fishery targets several species of crab (e.g., spider or sheep, Tanner crab) and other shellfish species (e.g., Kellet's whelk) using trap/pot gear.

The majority of effort for Tanner crabs occurs in northern California out of Eureka and Crescent City. Otherwise, most of the components of this fishery are primarily active south of Point Conception from Santa Barbara to San Diego.

Tanner crab pots/traps are larger (up to 10 ft (3 m) x 10 ft (3 m)) than those used to target other species, with a depth of no more than 42 inches (107 centimeters). The traps consist either of 3 mm polyethylene web or vinyl-coated steel wire with at least three openings of 4.5 inches (11 centimeters) inside diameter on the sides and upper panel of the trap, to allow undersized crabs to escape. Up to 480 traps can be used per permitted vessel, with a maximum of 80 traps used per a single string. Every string of traps is marked with a buoy on each end, and each buoy is marked with the vessel's commercial boat registration number preceded by the letters “TC”.

The gear used to target other species in this fishery are generally similar to pots/traps used to catch other prominent shellfish species that include Dungeness crab, rock crab, and spiny lobster. Destructive devices that create an unobstructed opening anywhere in the top or upper half of the trap when the material corrodes or fails are required. Most traps are fished singularly, but strings of 5-25 traps may be used to target some species.

A Tanner crab trap vessel permit is required by the state of California. There is a 5-inch (12.7 centimeters) minimum carapace size limit, and measuring devices should be present on the vessel at all times. Only males are allowed to be retained. The cumulative trip limits for each permitted vessel are 250,000 pounds (113,398 kilograms) of whole crab over each 2-month period. There is an annual catch limit of 2 million pounds for the period from April 1 to March 31 of the following year. When the limit is close to being reached, the State can give notice of at least 10 days before the closure. No finfish other than sablefish are allowed to be retained under the Tanner crab permit. Observers and logbooks are required for the Tanner crab fishery.

Spider crab and other species can be landed under a general trap permit from the State of California. The total allowable catch of spider crab for the entire state is 95,000 pounds (43,091 kilograms) landed during a calendar year.

There are currently 40 participants in this fishery. There is partial observer coverage for this fishery, there have been no documented marine mammal mortalities or injuries from stranding or other data. Therefore, NMFS proposes to add this fishery as a Category III fishery.

NMFS proposes to add the CA/OR/WA non-albacore Highly Migratory Species (HMS) hook and line fishery as a Category III fishery. This new Category III fishery includes hook and line fishing gear not covered by fisheries currently included on the LOF. Fishing effort using troll and other surface hook and line gear targeting HMS are not captured in the two currently named HMS hook and line fisheries on the LOF (Category III WA/OR/CA albacore surface hook and line/troll fishery and Category III CA pelagic longline fishery).

Hook and line fisheries for non-albacore HMS species occur in Federal waters (3-200 nm), mostly in the Southern California Bight with very little effort occurring north of Point Conception. The species targeted include swordfish, tuna (bluefin and yellowfin), thresher shark (common, bigeye, and pelagic), shortfin mako shark, dorado, and opah.

The fisheries operate year-round. Fishing effort generally starts during late spring/early summer and starts dropping off towards late fall/early winter, depending on the availability and movement patterns of HMS. The presence of large scale ocean/climate conditions such as El Niño and La Niña can influence the movement of HMS species considerably. A wide variety of depths within the water column may be targeted depending on species and other factors.

The main type of hook and line gear used for non-albacore HMS is troll gear, although other surface hook and line gear such as rod-and-reel and hand lines may be used. Troll gear typically includes one or more lines with lures or baited hooks attached that are drawn (“trolled”) through the water column at various depths, depending on species targeted.

All HMS require a Federal HMS permit, and additional state permits may apply. All West Coast non-albacore hook and line fisheries are open access. There are no limits to the number of species that can be landed, with the exception of bluefin tuna trip limits specified through the Inter-American Tropical Tuna Commission. Logbooks are required for all fisheries targeting HMS, and some HMS fisheries are required to carry observers.

There are currently 124 participants in this fishery. Historically, there have been no documented marine mammal mortalities or injuries incidental to the components of this fishery. Therefore, this fishery is being proposed as a Category III fishery.

Fishery Name and Organizational Changes and Clarification

NMFS proposes to remove the superscript “1” from the Main Hawaiian Islands (MHI) insular stock of false killer whale to indicate the stock is no longer driving the Category I classification of the HI deep-set longline fishery. The total estimated annual M/SI of the MHI insular stock of false killer whale in the HI deep-set longline fishery for the 5-year period of 2014-2018 is 0.03 animals, which represents 10 percent of PBR (0.3) (Carretta et al., 2021).

NMFS corrects an administrative error in Table 1. NMFS adds the superscript “1” CA/OR/WA stock of humpback whales to indicate the stock is driving the Category II classification of the CA coonstripe shrimp pot fishery. This fishery was reclassified in the 2020 LOF (85 FR 21079; April 16, 2020) based on one entangled humpback whale, but Table 1 did not indicate that the stock is driving the Category II classification.

NMFS proposes to rename the Category III WA/OR herring, smelt, squid purse seine or lampara fishery to the WA/OR herring, anchovy, smelt, squid purse seine or lampara fishery to indicate anchovy is a target species of this fishery. This fishery includes fishing for herring, anchovy, smelt, market squid, and other baitfish that occur in inland and coastal waters of Oregon and Washington, including bays and estuaries. Some portions of the fishery are generally open year round, but there are other variations depending on target species and gear type.

Fishermen use a variety of gear types in this fishery including: Purse seine, lampara net, drag seine, and dip bag net gear. A purse seine is a large wall of netting deployed around an entire school of fish. When a school of target species is located, a skiff will encircle the school with one end of the seine attached to it while the other end is attached to the fishing vessel itself. Once the skiff circles back around to the vessel, the lead line at the bottom of the seine is pulled in “pursing” the net closed on the bottom preventing the fish from escaping when swimming downward.

Purse seine, drag seine, and lampara nets have a minimum mesh size of a ½-inch (12.7 mm) stretched. In Puget Sound, lampara nets are allowed to be up to 200 feet (60.96 m) in length. The maximum length of purse seine nets varies by location with the smallest maximum length of 300 feet (91.44 m) in inland Oregon to the largest allowable length of 1,400 feet in the offshore and coastal waters of Washington. Drag seines used in Willapa Bay, Grays Harbor, and the Lower Columbia River can be a maximum of 350 feet (106.68 m) long with a 1¼ inch (31.75 mm) minimum stretch measure net mesh size. Squid fishing in Washington's waters involves dip net bags with a maximum diameter of 10 feet (3.05 m) and maximum size of 18 feet (5.47 m), and a minimum mesh size of 1-inch (25.4 mm).

There is some overlap of the management of this fishery with the PFMC's Coastal Pelagic Species FMP in coastal and offshore waters. There are additional state regulations that govern the harvest of some species. State permits are generally required to fish for each species type and/or gear used within Washington's coastal and inland waters (e.g., Puget Sound herring lampara fishery license, smelt dip bag license). Many of the permits are open access, with some exceptions that include limited entry permits for herring fisheries on the Washington coast, and the Yaquina Bay herring roe purse seine fishery in Oregon.

Logbooks are required for some species/gear used in each state. Catch limits for individual landings or total fleet catch may apply. For example, both states limit the landing of anchovy to 5 metric tons (mt) daily, and to 10 mt weekly (in Oregon this applies to anchovy caught within inland waters). Other examples include that the Puget Sound herring fishery is closed by emergency regulation if the harvest exceeds 10 percent of the adult spawning biomass. There are limits on how much catch can be converted into fish meal or other products. Incidental bycatch of non-target species (not including protected species) may be allowed up to certain limits depending on the fishery type and the species incidentally caught.

NMFS proposes to rename the Category III WA salmon purse seine fishery to the WA salmon seine fishery to clarify that both purse seine and beach seine gear are used to target salmon in the Washington state salmon fishery. The fishery targets sockeye, Chinook, pink, coho, and chum salmon within Puget Sound, Washington. The purse seine fishery occurs in central Puget Sound, the San Juan Islands, and Hood Canal. The fishery usually begins around mid-July and extends until early December, with individual regions opening and closing at different times within the overall fishing season. The beach seine salmon fishery is an experimental fishery targeting Chinook and coho that is only authorized in Hood Canal. The season runs from late July to late September, depending upon the region within the Hood Canal.

Purse seines may have a maximum length of 1,800 feet (548 m) along the cork line, and the net and lead line combined cannot exceed 2,200 feet (670 m). The minimum mesh size of purse seine nets is 3.5 inches (88.9 mm) and cannot be made of a twine-size smaller than 210/30d nylon, 12-thread cotton, or an equivalent diameter material. There are also specific requirements for the configuration of the cork line in the bunt. In some areas, a brailer and recovery box may be required.

Beach seining involves a net that is able to encircle a group of fish adjacent to a beach with one end of the net attached to a designated boat. The beach seine net cannot be longer than 990 feet (301 m), or more than 200 meshes in depth. The mesh must be between 3 (76.2 mm) and 4 (101.6 mm) inches and made of twine no smaller than 210/30d nylon, 12 thread cotton, or an equivalent material.

The Washington Department of Fish and Wildlife (WDFW), Puget Sound Treaty Tribes, and NMFS jointly manage salmon harvest in Washington. The salmon purse seine fishery requires a limited entry permit, which is transferable. The fishery is managed through season openings, mesh size limits, and limits regarding the amount of time and effort allowed each day or night within the various areas. A portion of the fishery is managed by the Fraser River Panel, which is composed of representatives from the U.S. and Canada. A “Fish Friendly” best fishing practices workshop has to be attended by fishermen in order to fish in certain areas. The take of certain salmon species is prohibited in specific areas, and they have to be released immediately if captured.

Participation in the beach seine fishery involves acquiring a beach seine permit from WDFW (available since 2009). The permit holder must participate on the designated vessel in the open fishery. WDFW may require a logbook to be submitted to prove participation. Only a few permits are issued each year. All non-target fish must be released. WDFW deploys observers for this fishery.

For both the purse seine and beach seine fisheries, every fisherman is required to report lost netting to the WDFW. For these fisheries, emergency regulations and in-season changes can occur based on stock allocations and conservation objectives.

NMFS proposes to combine the Category III CA halibut hook and line/handline fishery and Category III CA white seabass hook and line/handline fishery, and name it the Category III CA halibut, white seabass, and yellowtail hook and line/handline fishery. This combination is based on considerable overlap in spatial distribution of target species, participants, landings and gear used in the fisheries. There are 388 participants in the fishery.

This fishery targets California halibut, white seabass, and yellowtail, although a mix of other species are also taken simultaneously including groundfish and pelagic species. Effort generally takes place in less than 55 fathoms (100 m) of water, and within 3 nm of the shoreline. The fishery is active all along the coast of California, although much of the effort for certain species occurs in the Southern California Bight.

The hook and line gear used includes several types of gear configurations: Troll, pole and line and longline. There are two types of longline gear that may be used in this fishery. The first one being a bottom longline with a main line extending horizontally along the seafloor with short lines attached to it at intervals, each culminating into a baited hook. The second type is called a vertical longline with a line that is weighted on the bottom end that is anchored to the seafloor, attached to a buoy (or buoys) on the top end at the sea surface that suspends the line vertically. Attached to the main vertical line are short lines at intervals, each culminating into baited hooks.

This is an open access fishery requiring a Resident Commercial Fishing License. A Commercial Ocean Enhancement Stamp is required for commercial fishermen who take, possess, or land any white sea bass south of Point Arguello. Other Federal and state regulations can be applicable depending on which species are caught and landed. Any gear that is not attached to the vessel must be attached to buoys floating on the surface and marked on the upper half with a commercial fishing license identification number at least 2 inches (50.8 mm) in height. Only a certain number of lines and hooks per line, and different types of hook and line gear configurations, are allowed in each of the districts especially where effort may occur less than 1 nm from shore (e.g., troll lines, longline gear cannot be fished in waters less than 1 nm from shore).

Troll and hand lines are limited to 900 feet (274 m) or less; only longlines can exceed this limit. All hooks present have to be below the upper one third of any vertical longline gear used. There are exemptions within certain districts to the number hooks that may be used in conjunction with certain gear types if the target species consists of at least 80 percent of the total catch.

NMFS proposes to rename the Category III WA/OR Pacific halibut longline fishery to the WA/OR/CA Pacific halibut longline fishery to clarify there is also Pacific halibut longline fishing effort in California. The Pacific halibut commercial fishery occurs within 10 regulatory areas (3 major areas (2, 3, and 4) divided further into subareas) throughout the North Pacific Ocean within the exclusive economic zone (EEZ), established by the International Pacific Halibut Commission (IPHC). The use of longlines to target Pacific halibut occurs along the Continental U.S. West Coast (excluding Alaska) in what is known as Area 2A, which includes the entire EEZ off of Washington, Oregon, and California.

Fishermen usually target Pacific halibut at depths of 15-150 fathoms (27-274 meters) where they prefer to hang out in current calming “hydraulic relief zones” such as depressions, valleys, and rock formations at the bottom of the sea. Fishing may occur anytime between IPHC's season dates from mid-March through mid-November. The Area 2A non-tribal directed commercial fishery usually occurs in summer, generally from June-July, although in some years it could be extended until August. Landing Pacific halibut as incidental catch during the sablefish longline fishery is allowed, but only for vessels participating in the sablefish Limited Entry fixed gear fishery from April 1 to October 31 with a valid license from the IPHC.

A long main line is used that consists of a lead core that allows it to sink to the ocean floor. The main line is made of nylon or a polyurethane-blend roughly 5/16 inch (7.9 mm) in width. The main line (or ground line) can be up to 1.5 nautical miles long and set on the bottom with an anchor (25-50 pounds (11-22 kg) at each end. Hooks are attached to the main line every 3-4 feet (91-121 cm) with a “gangion” made of nylon or monofilament line connected with a snap or tied on. The most common hooks used are size 16/0 circle hooks baited with live squid, mackerel heads, or artificial bait resembling sardine or anchovy. Pacific halibut is also incidentally caught with fixed gear (longline) in the sablefish fishery, which uses similar gear.

Pacific halibut fishing off the U.S. West Coast used to be managed solely by the IPHC through the PFMC Pacific Halibut Catch Sharing Plan (CSP). The routine management of the non-tribal commercial directed Pacific halibut fishery is being transitioned from the IPHC to the PFMC and NMFS. The IPHC will continue to set the total allowable catch for Pacific halibut, and the PFMC will continue to develop a CSP.

This is an open access fishery requiring permits obtained from the IPHC whether targeted or caught incidentally in fixed gear (longline) sablefish fisheries, with strict size and catch limits. Logbooks are required for vessels that have an overall length of 26 feet (7.9 m) or more. If catch limits are reached before the official closure dates, the fishery will be closed. There are no individual fishing quotas in this fishery, but there are landing ratios for the incidental catch fisheries and vessel limits per opener for the directed commercial fishery. In 2017 and 2018, observer coverage of the directed derby fishery was 8 percent and 25 percent, respectively.

NMFS proposes to rename the Category III WA/CA kelp fishery to the CA/WA kelp, seaweed, and algae fishery to clarify that in addition to kelp, other species of edible marine plants are commercially harvested in waters off the U.S. West Coast. The two species of kelp that are predominantly harvested are giant kelp and bull kelp. Giant kelp is the most common kelp species found along the southern and central California coast, whereas bull kelp becomes more abundant farther north. There are 87 geographical kelp beds along the California coast and Channel Islands. As of December 2020, each of the 87 kelp beds are designated as either: Open (33 beds), closed (18 beds), lease only (3 beds), and leasable (28 beds). California state marine parks and reserves are completely off limits to kelp harvesting, but there is limited kelp harvesting allowed in state marine conservation areas.

There is a herring roe-on-kelp fishery in Washington where kelp is harvested by hand from small vessels. The herring roe-on-kelp fishery occurs every year during the herring spawning season from late January until early June. The fishery takes place within Puget Sound, with regulated area closures.

There are various harvesting methods used for kelp, edible seaweed, or agar algae. Gear used for commercial harvest of kelp generally consists of a specially designed vessel with cutting mechanisms on the stern, and a conveyor system that places the cut kelp into a harvest bin. The blades are mounted at the base of the conveyor and lowered three feet into the kelp bed while the vessel moves slowly stern-first through the bed.

In the herring roe-on-kelp fishery, Macrocystis kelp is gathered and carefully placed in floating net pens or impoundments (pounds) in anticipation of a herring spawning event. Herring are seined, introduced to the pounds to spawn for about a week, and then released. The eggs stick to the kelp blades which are collected and layered with salt in totes.

The commercial harvesting of kelp, marine algae, and agar algae in California is managed by the California Department of Fish and Wildlife (CDFW). A kelp harvest license is valid for 1 year at a time. Although the license includes edible seaweed and agar algae as well, the license applicant must choose which type of harvest they will be participating in. Harvesters must submit a harvest plan that must be approved prior to harvesting. A monthly harvest report has to be submitted to the CDFW on or before the 10th day of each month of harvest, even if harvest did not occur.

Harvesters are not allowed to cut attached kelp at a depth greater than 4 feet (1.2 m), but can collect unattached kelp. Vessels can collect up to 600 tons of kelp a day. Agar algae are cut no closer than 2 inches to the holdfast, and removal of the holdfast is prohibited. Harvesters are not allowed to repetitively harvest from individual giant or bull kelp specimens, and the harvesting of kelp near sea otter rafting sites must be avoided.

Seaweed species of the genus Macrocystis is only allowed for harvesting for the herring spawn-on-kelp fishery, if approved by the WDFW. The herring spawn-on-kelp fishery is a limited entry fishery.

NMFS proposes to combine the Category III WA groundfish, bottomfish jig fishery and the hook and line component of the Category III CA nearshore finfish live trap/hook-and-line fishery, and name it the Category III WA/OR/CA groundfish/finfish hook and line fishery. This proposed combined fishery will also include other groundfish/finfish hook and line fishing effort of fisheries not currently included on the LOF. The two currently named Category III fisheries do not account for a large amount of non-longline hook and line fishing effort, which includes numerous combinations of target species, gear, and spatial distribution along the West Coast. This fishery has 689 participants.

The groundfish/finfish hook and line fishery (other than bottom longline) targets close to 100 different species that generally live on or near the bottom. There are over 60 different rockfish species with the primary species targeted in this fishery being black, vermilion, brown, and gopher rockfish. Other important targeted species include lingcod, cabazon, greenling, and sablefish. Numerous other finfish/groundfish are also landed.

Due to the variety of species, there is significant variation in the areas and depths where the gear is fished. Depths can range anywhere from 11-722 fathoms (20-1,300 m). The locations where fishermen are allowed to fish for these species groups can be limited by conservation areas (e.g., the Rockfish Conservation Area). The fishery operates year-round.

Hook and line gear includes several types of gear configurations including: Troll, pole and line and vertical longline. There are Federal and state regulations which must be adhered to including various area and time closures (e.g., Rockfish Critical Habitat). In some places, fishing is not allowed in certain districts over weekends and legal holidays. In California, troll lines cannot be fished in waters less than 1 nm from shore. Landing limits for different species over various time periods also typically apply. Other management restrictions regarding the number and configuration of lines and hooks that are allowed in different areas may also apply. Portions of this fishery are observed under the nearshore groundfish fixed gear fishery. Annual coverage from 2009-2018 for the entire nearshore groundfish fishery ranged from 4 to 8 percent.

NMFS proposes to combine and rename the Category III WA/OR bait shrimp, clam, hand, dive, or mechanical collection fishery and the Category III OR/CA sea urchin, sea cucumber hand, dive, or mechanical collection fishery into two distinct gear-based Category III fisheries: (1) The CA/OR/WA dive collection fishery and (2) the WA/OR/CA hand/mechanical collection fishery. As currently included on the LOF, there is overlap of fishing effort and target species between the two fisheries along the West Coast. Therefore, NMFS is proposing to combine these fisheries based on the harvesting methodologies' potential risk to marine mammals. NMFS proposes to aggregate the California, Oregon and Washington commercial dive fisheries into one Category III fishery, and aggregate the California, Oregon and Washington hand/mechanical collection fisheries into a separate Category III fishery.

The CA/OR/WA dive collection fisheries target primarily sea urchins, sea cucumbers, and other mollusks such as geoduck clams and occur in all three West Coast states. This fishery has 186 participants.

In California, the commercial take for red sea urchin is open for most of the year, but there are restrictions regarding certain areas or days of the week at times during the year. There are no seasonal restrictions on harvest of other sea urchin species. California sea cucumber may be collected year round; warty sea cucumbers are not allowed to be collected from March 1 to June 15.

In Oregon, most of the state is open year round for sea urchin harvest. However, the largest harvest area (Orford Reef) is open only November through April. The sea cucumber fishery occurs in various areas along the coast, but harvest from Orford Reef is prohibited May 1 through October 31.

Harvest of geoducks in Washington occurs exclusively within the inland waters of WA. The sea urchin fishery occurs October through February throughout the state, based mostly on gonad (roe or uni) condition and quality. There are numerous protected areas designated by the state of Washington where sea urchin fishing is prohibited. Specific sea cucumber harvest districts exist in the state, each with clearly defined open seasons.

SCUBA gear or a “hookah rig” are allowed in all three states where dive gear is used for commercial harvesting. The “hookah rig” consists of an air compressor with supply hoses that distribute air to divers. Divers use SCUBA for picking and scouting, but when a harvest area is identified the Hookah method is predominantly used. California and Washington allow divers to use nitrox and scooters, although Oregon prohibits the use of mixed gas.

The sea urchin commercial dive fishery is a limited entry permit fishery in all three U.S. West Coast states. In Washington there are catch limits, but none in Oregon or California. However, there are size limits in Oregon and Washington, but none in California. In Oregon, there are depth restrictions where harvest can occur. The Washington sea urchin permits are distributed almost equally between state and tribal commercial fishermen.

The sea cucumber dive fishery is a limited entry fishery in California and Oregon, but is open access requiring a shellfish dive permit in Washington. In California, there are no landing or size limits. In California, sea cucumber trawl permits allow for trawling or diving for sea cucumber, whereas a sea cucumber dive permit only allows for diving for sea cucumbers. In Oregon, harvest of sea cucumbers is allowed under a sea urchin permit. In Washington, a quota system exists for sea cucumbers. If the quota for the season is reached, the fishery is closed. The quota for each year changes and is based on stock assessments for each district. Submissions of logbooks are required in all three states.

To obtain a commercial geoduck permit, a competitive bid process is used to sell harvest contracts to the highest responsible bidder. Successful bidders are required to obtain a WDFW fishery license prior to commercial harvest.

The WA/OR/CA hand/mechanical collection fishery employs hand or mechanical collection methods within the intertidal or nearshore areas in all three West Coast states. Collection of clams and other mollusks in intertidal and subtidal areas, including razor, cockle, and butter clams, represent a substantial level of commercial harvest, especially in Oregon and Washington. Harvest of various bait fish or aquaria collection species in nearshore waters also occurs, particularly in California. This fishery has 320 participants.

The methods used for hand collection of targeted species can include shovels, hand pumps (especially for most clams), rakes, trowels, and hands (bare or protected). Hand powered tools are generally used in intertidal areas only. Methods for mechanical collection, especially for baitfish and aquaria species in nearshore or intertidal waters, include dip nets, hand pumps (for bait shrimp), and small trawl nets, along with numerous other devices. Management of hand and mechanical collection fisheries occurs with varying degrees within each state.

In Washington, specific permits are needed to harvest important target species such as razor clams or burrowing shrimp. Commercial harvest of razor clams is allowed only on the detached Willapa Spits, located at the mouth of Willapa Bay. Fishermen must either register with a Department of Health certified razor clam dealer or become certified by the Department of Health individually.

In Oregon, harvest of intertidal clam and shrimp species require a commercial shellfish or intertidal animal harvest permit. Seasonal restrictions that can vary by area may apply. Subtidal harvest of clams requires a separate permit.

In California, permits that are relevant, depending on the specific target and gear used, include: Tidal invertebrates, ghost shrimp, bay shrimp, and marine aquaria species. There are time and area restrictions that include marine conservation areas and state marine reserves.

Number of Vessels/Persons

NMFS proposes to update the estimated number of vessels/persons in the Pacific Ocean (Table 1) as follows:

Category II

• CA thresher shark/swordfish drift gillnet (≥14 in mesh) fishery from 14 to 21 vessels/persons;

• CA halibut/white seabass and other species set gillnet (>3.5 in mesh) fishery from 37 to 39 vessels/persons;

• CA yellowtail, barracuda, and white seabass drift gillnet (mesh size ≥3.5 in and <14 in) fishery from 22 to 20 vessels/persons;

• WA Puget Sound Region salmon drift gillnet fishery from 154 to 136 vessels/persons;

• CA coonstripe shrimp pot fishery from 14 to 9 vessels/persons;

• CA spiny lobster fishery from 186 to 189 vessels/persons;

• CA spot prawn pot fishery from 23 to 22 vessels/persons;

• CA Dungeness crab pot fishery from 501 to 471 vessels/persons;

• OR Dungeness crab pot fishery from 342 to 323 vessels/persons;

• WA/OR/CA sablefish pot fishery from 155 to 144 vessels/persons;

• WA coastal Dungeness crab pot fishery from 197 to 204 vessels/persons;

• HI shortline fishery from 9 to 5 vessels/persons;

Category III

• CA set gillnet (mesh size <3.5 in) fishery from 296 to 11 vessels/persons;

• HI inshore gillnet fishery from 36 to 29 vessels/persons;

• WA Grays Harbor salmon drift gillnet fishery from 24 to 19 vessels/persons;

• WA/OR Mainstem Columbia River eulachon gillnet fishery from 5 to 10 vessels/persons;

• WA Willapa Bay drift gillnet fishery from 82 to 57 vessels/persons;

• WA/OR sardine purse seine fishery from 42 to 6 vessels/persons;

• CA anchovy, mackerel, sardine purse seine fishery from 65 to 53 vessels/persons;

• CA squid purse seine fishery from 80 to 68 persons/vessels;

• CA tuna purse seine fishery from 10 to 14 vessels/persons;

• WA/OR Lower Columbia River salmon seine fishery from 10 to 1 person/vessel;

• WA/OR herring, anchovy, smelt, squid purse seine or lampara fishery from 130 to 41 vessels/persons;

• WA salmon seine fishery from 75 to 81 vessels/persons;

• HI lift net fishery from 17 to 15 vessels/persons;

• HI inshore purse seine fishery from <3 to none recorded vessels/persons;

• HI throw net, cast net fishery from 23 to 15 vessels/persons;

• HI seine net fishery from 24 to 17 vessels/persons;

• CA squid dip net fishery from 115 to 19 vessels/persons;

• HI offshore pen culture fishery from 2 to 1 vessels/persons;

• WA/OR/CA albacore surface hook and line/troll fishery from 705 to 556 vessels/persons;

• CA/OR/WA salmon troll fishery from 4,300 to 1,030 vessels/persons;

• HI troll fishery from 2,117 to 1,380 vessels/persons;

• HI rod and reel fishery from 322 to 237 vessels/persons;

• Guam tuna troll fishery from 432 to 398 vessels/persons;

• WA/OR/CA groundfish, bottomfish longline/set line fishery from 367 to 314 vessels/persons;

• WA/OR/CA Pacific halibut longline fishery from 350 to 130 vessels/persons;

• CA pelagic longline fishery from 1 to 4 vessels/persons;

• HI kaka line fishery from 15 to 5 vessels/persons;

• HI vertical line fishery from 3 to none recorded vessels/persons;

• CA halibut bottom trawl fishery from 47 to 23 vessels/persons;

• CA sea cucumber trawl fishery from 16 to 11 vessels/persons;

• WA/OR/CA shrimp trawl fishery from 300 to 130 vessels/persons;

• WA/OR/CA groundfish trawl fishery from 160-180 to 118 vessels/persons;

• CA rock crab pot fishery from 124 to 113 vessels/persons;

• WA/OR/CA hagfish pot fishery from 54 to 63 vessels/persons;

• WA/OR shrimp pot/trap fishery from 54 to 28 vessels/persons;

• WA Puget Sound Dungeness crab pot/trap fishery from 249 to 145 vessels/persons;

• HI crab trap fishery from 5 to 4 vessels/persons;

• HI fish trap fishery from 9 to 4 vessels/persons;

• HI lobster trap fishery from <3 to none recorded vessels/persons;

• HI shrimp trap fishery from 10 to 3 vessels/persons;

• HI crab net fishery from 4 to none recorded vessels/persons;

• HI kona crab loop net fishery from 33 to 20 vessels/persons;

• American Samoa bottomfish handline fishery from fewer than 20 to 9 vessels/persons;

• Commonwealth of the Northern Mariana Islands bottomfish fishery from 28 to 11 vessels/persons;

• Guam bottomfish fishery from >300 to 67 vessels/persons;

• HI aku boat, pole and line fishery from <3 to none recorded vessels/persons;

• HI bottomfish handline fishery from 578 to 385 vessels/persons;

• HI inshore handline fishery from 357 to 206 vessels/persons;

• HI pelagic handline fishery from 534 to 300 vessels/persons;

• CA swordfish harpoon fishery from 6 to 21 vessels/persons;

• HI bullpen trap fishery from 3 to none recorded vessels/persons;

• HI black coral diving fishery from <3 to none recorded vessels/persons;

• HI fish pond fishery from 5 to none recorded vessels/persons;

• HI handpick fishery from 46 to 25 vessels/persons;

• HI lobster diving fishery from 19 to 12 vessels/persons;

• HI spearfishing fishery from 163 to 82 vessels/persons; and

• HI aquarium collecting fishery from 90 to 34 vessels/persons.

List of Species and/or Stocks Incidentally Killed or Injured in the Pacific Ocean

NMFS proposes to add the Eastern North Pacific stock of gray whale to the list of species/stocks incidentally killed or injured in the Category II AK Prince William Sound salmon drift gillnet fishery based on a self-reported serious injury in 2018 (Carretta et al., 2020).

NMFS proposes to add three stocks to the list of species/stocks incidentally killed or injured in the Category II AK Bering Sea, Aleutian Islands pollock trawl fishery: (1) Arctic stock of ringed seal, (2) Central North Pacific stock of humpback whale and (3) Western North Pacific stock of humpback whale. In 2017, there was an observed mortality of a ringed seal (Arctic stock) (Muto et al., 2021). In 2018 one humpback whale mortality was observed in the AK Bering Sea, Aleutian Islands pollock trawl fishery. This mortality occurred in an area of humpback whale stock overlap and consistent with NMFS Guidelines for Assessing Marine Mammal Stocks (GAMMS), the serious injury was assigned to both the Western North Pacific and Central North Pacific stocks (Muto et al., 2021).

NMFS proposes to add the U.S. stock of California sea lion to the list of species/stocks incidentally killed or injured in the Category II CA spiny lobster fishery. In 2019, a California sea lion was reported entangled in 40 kilograms of lobster pot gear near Santa Barbara, CA. The gear was removed after sedating of the animal (Carretta et al., 2021).

NMFS proposes to add the California stock of Northern elephant seal to the list of species/stocks incidentally killed or injured in the Category II AK Gulf of Alaska sablefish longline fishery based on an observed serious injury in 2017 (Carretta et al., 2020).

NMFS proposes to add both the Western U.S. stock of Steller sea lion and North Kodiak stock of harbor seal to the list of species/stocks incidentally killed or injured in the Category III AK Kodiak salmon purse seine fishery. In 2018, a dead stranded Steller sea lion was reported entangled in commercial Kodiak salmon seine net (Muto et al., 2021). Also in 2018, a harbor seal mortality was documented in the barrier net of the salmon purse seine fishery (Young et al., 2020).

NMFS proposes to add the Gulf of Alaska, Aleutian Islands, Bering Sea transient stock of killer whale to the list of species/stocks incidentally killed or injured in the Category III AK Bering Sea, Aleutian Greenland turbot longline fishery based on observed mortality in 2015 (Muto et al., 2021).

NMFS proposes to add the Clarence Strait stock of harbor seal to the list of species/stocks incidentally killed or injured in the Category III AK Gulf of Alaska halibut longline fishery based on an observed mortality in 2018 (Young et al., 2020).

NMFS proposes to add the Cook Inlet/Shelikof Strait stock of harbor seal to the list of species/stocks incidentally killed or injured in the Category III AK Gulf of Alaska Pacific cod longline fishery based on an observed mortality in 2018 (Young et al., 2020).

NMFS proposes to add the California stock of Northern elephant seal to the list of species/stocks incidentally killed or injured in the Category III AK Bering Sea, Aleutian Islands Atka mackerel trawl fishery based on an observed serious injury in 2018 (Carretta et al., 2020).

NMFS proposes to add three stocks to the list of species/stocks incidentally killed or injured in the Category III AK Gulf of Alaska flatfish trawl fishery. The three stocks are: (1) Cook Inlet/Shelikof Strait stock of harbor seal, (2) North Kodiak stock of harbor seal, and (3) South Kodiak stock of harbor seal. In 2017, there were three observed mortalities of harbor seals (one from the North Kodiak stock and two from the Cook Inlet/Shelikof Strait stock) in the Gulf of Alaska flatfish trawl fishery. In 2018, there was one observed mortality of a harbor seal from South Kodiak stock (Young et al., 2020).

NMFS proposes to add the North Pacific stock of sperm whale to the list of species/stocks incidentally killed or injured in the Category III AK Bering Sea, Aleutian Islands sablefish pot fishery based on an observed mortality in 2018 (Muto et al., 2021).

NMFS proposes to add the U.S. stock of California sea lion to the list of species/stocks incidentally killed or injured in the Category III WA/OR/CA groundfish/finfish hook and line fishery. In 2017, a California sea lion depredated gear from the nearshore hook and line fishery and in the process carried the away the gear with seven hooks attached (Carretta et al., 2021).

NMFS proposes to add the Central North Pacific stock of humpback whale to the list of species/stocks incidentally killed or injured in the Category III AK/WA/OR/CA commercial passenger fishing vessel fishery based on an observed vessel strike that was determined to be a serious injury in 2017 (Young et al., 2020).

NMFS proposes to add the unknown stock of striped dolphin to the list of species/stocks incidentally killed or injured in the Category II American Samoa longline fishery based on an observed serious injury in 2018.

NMFS proposes to remove the Alaska resident stock of killer whale from the list of species/stocks incidentally killed or injured in the Category III AK Bering Sea, Aleutian Islands Greenland turbot longline fishery based on no recently observed mortalities or injuries.

NMFS proposes to remove the Alaska stock of spotted seal from the list of species/stocks incidentally killed or injured in the Category III AK Bering Sea, Aleutian Islands Pacific cod longline fishery based on no recently observed mortalities or injuries.

NMFS proposes to remove the six stocks from the list of species/stocks incidentally killed or injured in the Category II AK Bering Sea, Aleutian Islands pollock trawl fishery: (1) Alaska stock of bearded seal, (2), Bristol Bay stock of beluga whale, (3) Eastern Bering Sea stock of beluga whale, (4) Eastern Chukchi Sea stock of beluga whale, (5) Eastern Pacific stock of Northern fur seal and (6) Alaska stock of spotted seal. There have been no recently observed mortalities and injures of these six stocks in the AK Bering Sea, Aleutian Islands pollock trawl fishery.

NMFS proposes to remove the Alaska stock of bearded seal from the list of species/stocks incidentally killed or injured in the Category III AK Bering Sea, Aleutian Islands Atka mackerel trawl fishery based on no recently observed mortalities or injuries.

NMFS proposes to remove both the Gulf of Alaska, Aleutian Islands, Bering Sea transient stock and Eastern North Pacific Alaska resident stock of killer whale from the list of species/stocks incidentally killed or injured in the Category III AK Bering Sea, Aleutian Islands rockfish trawl fishery based on no recently observed mortalities or injuries. NMFS proposes to remove the North Pacific stock of Northern elephant seal from the list of species/stocks incidentally killed or injured in the Category III AK Gulf of Alaska flatfish trawl fishery based on no recently observed mortalities or injuries.

NMFS proposes to remove the Alaska stock of harbor seal from the list of species/stocks incidentally killed or injured in the Category III AK Gulf of Alaska Pacific cod trawl fishery based on no recently observed mortalities or injuries.

NMFS proposes to remove three stocks from the list of species/stocks incidentally killed or injured in the Category III AK Gulf of Alaska pollock trawl fishery: (1) Alaska stock of Dall's porpoise, (2) Northeast Pacific stock of fin whale and (3) North Pacific stock of Northern elephant seal. There have been no recently observed mortalities and injuries of these three stocks in the AK Gulf of Alaska pollock trawl fishery.

NMFS proposes to remove the Gulf of Alaska stock of harbor seal from the list of species/stocks incidentally killed or injured in the Category III AK Gulf of Alaska Pacific cod pot fishery based on no recently observed mortalities or injuries. The list of species/stocks incidentally killed or injured in this fishery is updated to state none documented in the most recent 5 years of data.

NMFS proposes to remove the Northeast Pacific stock of fin whale from the list of species/stocks incidentally killed or injured in the Category III AK Gulf of Alaska groundfish jig fishery based on no recently observed mortalities or injuries. The list of species/stocks incidentally killed or injured in this fishery is updated to state none documented in the most recent 5 years of data.

NMFS proposes to remove five stocks from the list of species/stocks incidentally killed or injured in the Category I HI deep-set longline fishery: (1) Pelagic stock of bottlenose dolphin, (2) Hawaii stock of Kogia spp., (3) Hawaii stock of pygmy killer whale, (4) Hawaii stock of Risso's dolphin and (5) Hawaii stock of striped dolphin. There have been no recently reported or observed mortalities or injuries of these five stocks within the EEZ in the HI deep-set longline fishery (Carretta et al., 2021).

NMFS proposes to remove six stocks from the list of species/stocks incidentally killed or injured in the Category II HI shallow-set longline fishery: (1) Hawaii stock of Blainville's beaked whale, (2) Hawaii pelagic stock of bottlenose dolphin, (3) Central North Pacific stock of humpback whale, (4) Hawaii stock of Risso's dolphin, (5) Hawaii stock of rough-toothed dolphin and (6) Hawaii stock of striped dolphin. From 2014-2018, there have been no reported or observed M/SI of these six stocks within the EEZ in the HI shallow-set longline fishery (Carretta et al., 2021).

NMFS proposes to revise marine mammal stock names on the list of species/stocks incidentally killed or injured for consistency with the current stock names in the SARs as follows:

Category II AK Cook Inlet Salmon Set Gillnet Fishery

• Harbor seal, GOA to harbor seal, Cook Inlet/Shelikof Strait;

Category II AK Bering Sea, Aleutian Islands Flatfish Trawl Fishery

• Bearded seal, AK to bearded seal, Beringia;

• Harbor seal, Bering Sea to harbor seal, Bristol Bay;

• Killer whale, AK resident to killer whale, Eastern North Pacific Alaska resident;

• Killer whale, GOA, AI, BS transient to killer whale, Eastern North Pacific GOA, AI, BS transient;

• Ringed seal, AK to ringed seal, Arctic;

• Ribbon seal, AK to ribbon seal;

• Spotted seal, AK to spotted seal, Bering;

Category II AK Bering Sea, Aleutian Islands Pollock Trawl Fishery

• Harbor seal, AK to harbor seal, Bristol Bay;

• Ribbon seal, AK to ribbon seal;

Category II AK Prince William Sound Salmon Set Gillnet Fishery

• Harbor seal, GOA to harbor seal, Prince William Sound;

Category III AK Bering Sea, Aleutian Islands Rockfish Trawl Fishery

• Ribbon seal, AK to ribbon seal; and

Category III AK Bering Sea, Aleutian Islands Pacific Cod Trawl Fishery

• Ribbon seal, AK to ribbon seal.

Commercial Fisheries in the Atlantic Ocean, Gulf of Mexico, and Caribbean

Fishery Name and Organizational Changes and Clarification

NMFS proposes to add a new fishery, MA mixed species trap/pot fishery, as a Category II fishery that encompasses all trap/pot fishing that occurs in state waters of Massachusetts. We propose to remove Massachusetts state waters trap/pot fisheries from the broader Category I Northeast/Mid-Atlantic American lobster trap/pot and Category II Atlantic mixed species trap/pot fisheries. This new Category II fishery includes, but is not limited to, trap/pot fisheries targeting American lobster, black sea bass, whelk, tautog, jonah crab, and rock crab in Massachusetts state waters. This list is not considered comprehensive and other species targeted or caught using trap/pot fixed gear within this geographical boundary, current and future, will also be considered a part of the MA mixed species trap/pot fishery. Based on permit holder information collected through the MMAP in 2019, there are an estimated 1,240 state permit holders utilizing trap/pot gear.

On January 28, 2021, the Massachusetts Marine Fisheries Advisory Commission approved several new regulatory measures affecting protected species and fixed gear fishing in Massachusetts. The suite of regulations include gear modifications and changes to seasonal closures that differentiate the Massachusetts trap/pot fishery from the Northeast/Mid-Atlantic American lobster trap/pot and Atlantic mixed species trap/pot fisheries. The Massachusetts Department of Marine Fisheries has begun implementing these regulations, which are further described below, and all measures will be in place for the 2022 fishing season. Based on these new regulations, the Massachusetts Department of Marine Fisheries commented on the 2021 LOF and asked NMFS to consider separating out the trap/pot fixed gear fishery operating in Massachusetts state waters from the Northeast/Mid-Atlantic American lobster trap/pot and Atlantic mixed species trap/pot fisheries. NMFS agreed to reevaluate the fishery in the 2022 LOF. We have determined that these gear modifications and time/area restrictions sufficiently differentiate the risk posed by the MA mixed species trap/pot fishery from the surrounding trap/pot fisheries, warranting a separate fishery on the LOF.

This determination is based on, among other considerations discussed below, several characteristics of the MA mixed species trap/pot fishery as modified by these new state regulations: (1) By the 2022 fishing season, all commercial trap fishermen in Massachusetts state waters will be required to fish buoy lines that break when exposed to 1,700 pounds (771 kg) of tension; (2) all commercial trap fishermen will be required to fish buoy lines with a maximum diameter of ⅜ inch (9.5 mm); and (3) state-specific gear marks will be required to be no more than 60 feet (18 m) apart on all vertical lines, distinguishing the gear from other states that will use different colors and fewer marks. Massachusetts is the only state to require these gear modifications by regulation, creating a consistent standard across the state's waters for all commercial trap/pot fishermen.

The LOF considers the risk that a fishery poses to marine mammal stocks. Along with required gear modifications, Massachusetts is implementing extensive seasonal time/area closures that expand current restricted areas in time and space to significantly reduce co-occurrence of the fishery and North Atlantic right whales. Specifically, a seasonal commercial trap/pot gear closure will occur from February 1-May 15 in Cape Cod Bay, Stellwagen Bank, and Outer Cape Cod Lobster Management Area, and north to the New Hampshire border. During the May 1-May 15 period, the closure will occur on a dynamic basis allowing the state to lift the closure (or parts thereof) if whales no longer remain in state waters. If right whales are not detected in the area during May 1-May 15, the closure area will re-open. This management option is only possible due to the extensive monitoring of North Atlantic right whale populations through state and Federal aerial survey efforts over Massachusetts' waters. Monitoring information is further enhanced by sighting and entanglement reporting from commercial and recreational vessels that consistently use these waters.

The overall changes to the fishery are expected to significantly reduce the risk of entanglement of North Atlantic right whales and other large whales in Massachusetts state waters and distinguish the Massachusetts state waters trap/pot fishery from other trap/pot fisheries in the area.

To separate a Category I fishery into a new fishery due to new regulatory measures, NMFS will require at a minimum that the new fishery significantly reduce the risk of entanglement of the stock driving the Category I classification, and that the new fishery requires gear marks to distinguish the fishery from its former fishery on the LOF. Massachusetts fulfills these threshold requirements. In addition, the new fishery's classification and status as a separate fishery will be reevaluated annually.

NMFS is therefore proposing to classify the new MA mixed species trap/pot fishery based on the regulatory definition (50 CFR 229.2) of a Category II fishery. As described above, this is a newly identified fishery and, as a new fishery, there is an absence of incidental mortality and serious injury of marine mammal information in this fishery as currently prosecuted. Based on this absence of incidental mortality and serious injury information, no marine mammal species/stocks will be included on the list of species/stocks incidentally killed or injured in Table 2 for this new fishery. Species/stocks will be added to the list if mortalities or injuries are documented in the fishery. With the information from the extensive monitoring programs in Massachusetts state waters, NMFS will annually evaluate the classification of this newly identified fishery for the LOF.

This proposed Category II classification for the MA mixed species trap/pot fishery does not change the measures that the fishery is currently subjected to through the Atlantic Large Whale Take Reduction Plan (ALWTRP). NMFS proposes to add the fishery to the list of affected fisheries for the ALWTRP in Table 4.

List of Species and/or Stocks Incidentally Killed or Injured in the Atlantic Ocean, Gulf of Mexico, and Caribbean

NMFS proposes to add the Northern migratory coastal stock of bottlenose dolphin to the list of species/stocks incidentally killed or injured in the Category I Northeast sink gillnet fishery. In 2017, there were four self-reported mortalities in this fishery. These mortalities included one case from August 2017 of two dolphins entangled in the same gillnet, and a separate case from November 2017 of two dolphins entangled in the same gillnet (Hayes et al., 2021).

NMFS proposes to add both the Pensacola Bay, East Bay stock and Perdido Bay stocks of bottlenose dolphin to the list of species/stocks incidentally killed or injured in the Category II Southeastern U.S. Atlantic, Gulf of Mexico shrimp trawl fishery. In 2016, there were two dolphin mortalities with documented shrimp trawl entanglements, one in Pensacola Bay and one in Perdido Bay. One stranded, dead dolphin was documented with shrimp trawl mesh attached and showing evidence of net marks and constriction. Another stranded, dead dolphin was documented with shrimp trawl headrope attached as well as small pieces of webbing. The gear was analyzed and verified by NOAA NMFS Harvesting Systems Branch Gear Analysis Lab in Pascagoula, MS (NOAA National Marine Mammal Health and Stranding Response Database unpublished data, Hayes et al., 2019).

Commercial Fisheries on the High Seas

Fishery Name and Organizational Changes and Clarification

NMFS proposes to rename the Category II South Pacific tuna purse seine fishery to the Western and Central Pacific Ocean tuna purse seine fishery. This proposed change aligns the name with the current statutory authority under which the fishery is managed, the Western and Central Pacific Fisheries Convention Implementation Act, and the gear used in the fishery.

NMFS proposes to clarify the fishery description for the renamed Category II Western and Central Pacific Ocean tuna purse seine fishery. NMFS clarifies that the only gear type used in this fishery is purse seine. The fishery description previously included longline gear, however, South Pacific tuna longline fishery is included under the Western Pacific Pelagic deep-set and shallow-set longline fisheries. Based on this proposed clarification, NMFS also proposes to remove the Category II South Pacific tuna longline fishery from the LOF.

Number of Vessels/Persons

NMFS proposes updates to the estimated number of HSFCA permits for high seas fisheries (Table 3) as follows:

Category I

• Atlantic highly migratory species longline fishery from 45 to 39 HSFCA permits;

Category II

• Western and Central Pacific Ocean tuna purse seine fishery from 26 to 20 HSFCA permits;

• Pacific highly migratory species handline/pole and line fishery from 43 to 44 HSFCA permits;

• South Pacific albacore troll handline/pole and line fishery from 10 to 9 HSFCA permits;

• South Pacific albacore troll fishery from 18 to 20 HSFCA permits; South Pacific tuna troll fishery from 1 to 0 HSFCA permits;

• Western Pacific pelagic troll fishery from 4 to 6 HSFCA permits;

Category III

• Pacific highly migratory species longline fishery from 105 to 111 HSFCA permits; and

• Pacific highly migratory species troll fishery from 111 to 107 HSFCA permits.

List of Species and/or Stocks Incidentally Killed or Injured on the High Seas

NMFS proposes to add the following 18 stocks to the list of species/stocks incidentally killed or injured in the Category II Western and Central Pacific Ocean tuna purse seine fishery based on observed and fishermen self-reported mortalities and injuries from 2014 through 2020: (1) Hawaii pelagic stock of bottlenose dolphin, (2) unknown stock of blue whale, (3) Hawaii stock of Bryde's whale, (4) Hawaii pelagic stock of false killer whale, (5) Hawaii stock of fin whale, (6) unknown stock of humpback whale, (7) Indo-Pacific bottlenose dolphin, (8) California stock of long-beaked common dolphin, (9) unknown stock of melon-headed whale, (10) Hawaii stock of minke whale, (11) unknown stock of pantropical spotted dolphin, (12) Hawaii stock of pygmy killer whale, (13) unknown stock of Risso's dolphin, (14) unknown stock of rough-toothed dolphin, (15) Hawaii stock of sei whale, (16) unknown stock of short-finned pilot whale, (17) Hawaii stock of sperm whale, and (18) unknown stock of spinner dolphin.

NMFS proposes to add Ginkgo-toothed beaked whale to the list of species/stocks incidentally killed or injured in the Category II Western Pacific Pelagic longline fishery (HI shallow-set component). An observed entanglement that occurred in 2014 was originally added as an unknown stock of Mesoplodon species to the list of species/stocks incidentally killed or injured. This observed entanglement was later updated to be a Ginkgo-toothed beaked whale.

NMFS proposes to remove the Central North Pacific stock of humpback whale and Hawaii stock of pygmy killer whale from the list of species/stocks incidentally killed or injured in the Category I Western Pacific Pelagic longline fishery (HI deep-set component). From 2014-2018, there were no observed mortalities or injuries of these two stocks in the HI deep-set component of the Western Pacific Pelagic longline fishery (Carretta et al., 2021, Muto et al., 2021).

NMFS proposes to remove three stocks from the list of species/stocks incidentally killed or injured in the Category II Western Pacific Pelagic longline fishery (HI shallow-set component). The three stocks are: (1) Hawaii stock of Blainville's beaked whale, (2) unknown stock of Mesoplodon species, and (3) Hawaii stock of rough-toothed dolphin. From 2014-2018, there were no observed moralities or injuries of these stocks in the HI shallow-set component of the Western Pacific Pelagic longline fishery (Carretta et al., 2021).

List of Fisheries

The following tables set forth the list of U.S. commercial fisheries according to their classification under section 118 of the MMPA. Table 1 lists commercial fisheries in the Pacific Ocean (including Alaska), Table 2 lists commercial fisheries in the Atlantic Ocean, Gulf of Mexico, and Caribbean, Table 3 lists commercial fisheries on the high seas, and Table 4 lists fisheries affected by TRPs or TRTs.

In Tables 1 and 2, the estimated number of vessels or persons participating in fisheries operating within U.S. waters is expressed in terms of the number of active participants in the fishery, when possible. If this information is not available, the estimated number of vessels or persons licensed for a particular fishery is provided. If no recent information is available on the number of participants, vessels, or persons licensed in a fishery, then the number from the most recent LOF is used for the estimated number of vessels or persons in the fishery. NMFS acknowledges that, in some cases, these estimates may be inflations of actual effort. For example, the State of Hawaii does not issue fishery-specific licenses, and the number of participants reported in the LOF represents the number of commercial marine license holders who reported using a particular fishing gear type/method at least once in a given year, without considering how many times the gear was used. For these fisheries, effort by a single participant is counted the same whether the fisherman used the gear only once or every day. In the Mid-Atlantic and New England fisheries, the numbers represent the potential effort for each fishery, given the multiple gear types for which several state permits may allow. Changes made to Mid-Atlantic and New England fishery participants will not affect observer coverage or bycatch estimates, as observer coverage and bycatch estimates are based on vessel trip reports and landings data. Tables 1 and 2 serve to provide a description of the fishery's potential effort (state and Federal). If NMFS is able to extract more accurate information on the gear types used by state permit holders in the future, the numbers will be updated to reflect this change. For additional information on fishing effort in fisheries found on Table 1 or 2, contact the relevant regional office (contact information included above in Where can I find more information about the LOF and the MMAP? section).

For high seas fisheries, Table 3 lists the number of valid HSFCA permits currently held. Although this likely overestimates the number of active participants in many of these fisheries, the number of valid HSFCA permits is the most reliable data on the potential effort in high seas fisheries at this time. As noted previously in this LOF, the number of HSFCA permits listed in Table 3 for the high seas components of fisheries that also operate within U.S. waters does not necessarily represent additional effort that is not accounted for in Tables 1 and 2. Many vessels holding HSFCA permits also fish within U.S. waters and are included in the number of vessels and participants operating within those fisheries in Tables 1 and 2.

Tables 1, 2, and 3 also list the marine mammal species and/or stocks incidentally killed or injured (seriously or non-seriously) in each fishery based on SARs, injury determination reports, bycatch estimation reports, observer data, logbook data, stranding data, disentanglement network data, fishermen self-reports (i.e., MMAP reports), and anecdotal reports. The best available scientific information included in these reports is based on data through 2018. This list includes all species and/or stocks known to be killed or injured in a given fishery, but also includes species and/or stocks for which there are anecdotal records of a mortality or injury. Additionally, species identified by logbook entries, stranding data, or fishermen self-reports (i.e., MMAP reports) may not be verified. In Tables 1 and 2, NMFS has designated those species/stocks driving a fishery's classification (i.e., the fishery is classified based on mortalities and serious injuries of a marine mammal stock that are greater than or equal to 50 percent (Category I), or greater than 1 percent and less than 50 percent (Category II), of a stock's PBR) by a “1” after the stock's name.

In Tables 1 and 2, there are several fisheries classified as Category II that have no recent documented mortalities or serious injuries of marine mammals, or fisheries that did not result in a mortality or serious injury rate greater than 1 percent of a stock's PBR level based on known interactions. NMFS has classified these fisheries by analogy to other Category I or II fisheries that use similar fishing techniques or gear that are known to cause mortality or serious injury of marine mammals, as discussed in the final LOF for 1996 (60 FR 67063; December 28, 1995), and according to factors listed in the definition of a “Category II fishery” in 50 CFR 229.2 (i.e., fishing techniques, gear types, methods used to deter marine mammals, target species, seasons and areas fished, qualitative data from logbooks or fishermen reports, stranding data, and the species and distribution of marine mammals in the area). NMFS has designated those fisheries listed by analogy in Tables 1 and 2 by adding a “2” after the fishery's name.

There are several fisheries in Tables 1, 2, and 3 in which a portion of the fishing vessels cross the EEZ boundary and therefore operate both within U.S. waters and on the high seas. These fisheries, though listed separately on Table 1 or 2 and Table 3, are considered the same fisheries on either side of the EEZ boundary. NMFS has designated those fisheries in each table with an asterisk (*) after the fishery's name.

Table 1—List of Fisheries—Commercial Fisheries in the Pacific Ocean
Fishery description | Estimated number of vessels/ persons | Marine mammal species and/or stocks incidentally killed or injured
CATEGORY I
Longline/Set Line Fisheries:
HI deep-set longline * ^ | 143 | False killer whale, HI Pelagic.¹
|  | False killer whale, MHI Insular.
|  | False killer whale, NWHI.
|  | Humpback whale. Central North Pacific.
|  | Rough-toothed dolphin, HI.
|  | Short-finned pilot whale, HI.
CATEGORY II
Gillnet Fisheries:
CA thresher shark/swordfish drift gillnet (≥14 in mesh) * | 21 | Bottlenose dolphin, CA/OR/WA offshore. California sea lion, U.S. Dall's porpoise, CA/OR/WA.
|  | Gray whale, Eastern North Pacific.
|  | Humpback whale, CA/OR/WA.
|  | Long-beaked common dolphin, CA.
|  | Minke whale, CA/OR/WA.¹
|  | Northern elephant seal, CA breeding.
|  | Northern right-whale dolphin, CA/OR/WA.
|  | Pacific white-sided dolphin, CA/OR/WA.
|  | Risso's dolphin, CA/OR/WA.
|  | Short-beaked common dolphin, CA/OR/WA.
|  | Short-finned pilot whale, CA/OR/WA.¹
|  | Sperm Whale, CA/OR/WA.¹
CA halibut/white seabass and other species set gillnet (>3.5 in mesh) | 39 | California sea lion, U.S. Gray whale, Eastern North Pacific. Harbor seal, CA.
|  | Humpback whale, CA/OR/WA.¹
|  | Long-beaked common dolphin, CA.
|  | Northern elephant seal, CA breeding.
|  | Sea otter, CA.
|  | Short-beaked common dolphin, CA/OR/WA.
CA yellowtail, barracuda, and white seabass drift gillnet (mesh size ≥3.5 in and <14 in) ² | 20 | California sea lion, U.S. Long-beaked common dolphin, CA. Short-beaked common dolphin, CA/OR/WA.
AK Bristol Bay salmon drift gillnet ² | 1,862 | Beluga whale, Bristol Bay. Gray whale, Eastern North Pacific.
|  | Harbor seal, Bering Sea.
|  | Northern fur seal, Eastern Pacific.
|  | Pacific white-sided dolphin, North Pacific.
|  | Spotted seal, AK.
|  | Steller sea lion, Western U.S.
AK Bristol Bay salmon set gillnet ² | 979 | Beluga whale, Bristol Bay. Gray whale, Eastern North Pacific.
|  | Harbor seal, Bering Sea.
|  | Northern fur seal, Eastern Pacific.
|  | Spotted seal, AK.
AK Kodiak salmon set gillnet | 188 | Harbor porpoise, GOA.¹ Harbor seal, GOA.
|  | Humpback whale, Central North Pacific.
|  | Humpback whale, Western North Pacific.
|  | Sea otter, Southwest AK.
|  | Steller sea lion, Western U.S.
AK Cook Inlet salmon set gillnet | 736 | Beluga whale, Cook Inlet. Dall's porpoise, AK.
|  | Harbor porpoise, GOA.
|  | Harbor seal, Cook Inlet/Shelikof Strait.
|  | Humpback whale, Central North Pacific.¹
|  | Sea otter, South central AK.
|  | Steller sea lion, Western U.S.
AK Cook Inlet salmon drift gillnet | 569 | Beluga whale, Cook Inlet. Dall's porpoise, AK.
|  | Harbor porpoise, GOA.¹
|  | Harbor seal, GOA.
|  | Steller sea lion, Western U.S.
AK Peninsula/Aleutian Islands salmon drift gillnet ² | 162 | Dall's porpoise, AK. Harbor porpoise, GOA. Harbor seal, GOA.
|  | Northern fur seal, Eastern Pacific.
AK Peninsula/Aleutian Islands salmon set gillnet ² | 113 | Harbor porpoise, Bering Sea. Northern sea otter, Southwest AK. Steller sea lion, Western U.S.
AK Prince William Sound salmon drift gillnet | 537 | Dall's porpoise, AK. Gray whale, Eastern North Pacific. Harbor porpoise, GOA.¹
|  | Harbor seal, Prince William Sound.
|  | Northern fur seal, Eastern Pacific.
|  | Pacific white-sided dolphin, North Pacific.
|  | Sea otter, South central AK.
|  | Steller sea lion, Western U.S.¹
AK Southeast salmon drift gillnet | 474 | Dall's porpoise, AK. Harbor porpoise, Southeast AK. Harbor seal, Southeast AK.
|  | Humpback whale, Central North Pacific.¹
|  | Pacific white-sided dolphin, North Pacific.
|  | Steller sea lion, Eastern U.S.
AK Yakutat salmon set gillnet ² | 168 | Gray whale, Eastern North Pacific. Harbor Porpoise, Southeastern AK. Harbor seal, Southeast AK.
|  | Humpback whale, Central North Pacific (Southeast AK).
WA Puget Sound Region salmon drift gillnet (includes all inland waters south of US-Canada border and eastward of the Bonilla-Tatoosh line-Treaty Indian fishing is excluded) | 136 | Dall's porpoise, CA/OR/WA. Harbor porpoise, inland WA.¹
|  | Harbor seal, WA inland.
Trawl Fisheries:
AK Bering Sea, Aleutian Islands flatfish trawl | 32 | Bearded seal, Beringia. Gray whale, Eastern North Pacific. Harbor porpoise, Bering Sea.
|  | Harbor seal, Bristol Bay.
|  | Humpback whale, Western North Pacific.¹
|  | Killer whale, Eastern North Pacific Alaska resident.¹
|  | Killer whale, Eastern North Pacific GOA, AI, BS transient.¹
|  | Northern fur seal, Eastern Pacific.
|  | Ringed seal, Arctic.
|  | Ribbon seal.
|  | Spotted seal, Bering.
|  | Steller sea lion, Western U.S.¹
|  | Walrus, AK.
AK Bering Sea, Aleutian Islands pollock trawl | 102 | Harbor seal, Bristol Bay. Humpback whale, Central North Pacific. Humpback whale, Western North Pacific.
|  | Ribbon seal.
|  | Ringed seal, Arctic.
|  | Steller sea lion, Western U.S.¹
Pot, Ring Net, and Trap Fisheries:
AK Bering Sea, Aleutian Islands Pacific cod pot | 59 | Harbor seal, Bristol Bay. Humpback whale, Central North Pacific. Humpback whale, Western North Pacific.
CA coonstripe shrimp pot | 9 | Gray whale, Eastern North Pacific. Harbor seal, CA. Humpback whale, CA/OR/WA.¹
CA spiny lobster | 189 | Bottlenose dolphin, CA/OR/WA offshore. California sea lion, U.S. Humpback whale, CA/OR/WA.¹
|  | Gray whale, Eastern North Pacific.
|  | Southern sea otter.
CA spot prawn pot | 22 | Gray whale, Eastern North Pacific. Humpback whale, CA/OR/WA.¹ Long-beaked common dolphin, CA.
CA Dungeness crab pot | 471 | Blue whale, Eastern North Pacific.¹ Gray whale, Eastern North Pacific. Humpback whale, CA/OR/WA.¹
|  | Killer whale, Eastern North Pacific GOA, BSAI transient.
|  | Killer whale, West Coast transient.
OR Dungeness crab pot | 323 | Gray whale, Eastern North Pacific. Humpback whale, CA/OR/WA.¹
WA/OR/CA sablefish pot | 144 | Humpback whale, CA/OR/WA.¹
WA coastal Dungeness crab pot | 204 | Gray whale, Eastern North Pacific. Humpback whale, CA/OR/WA.¹
Longline/Set Line Fisheries:
AK Gulf of Alaska sablefish longline | 295 | Northern elephant seal, California. Sperm whale, North Pacific. Steller sea lion, Eastern U.S.
HI shallow-set longline * ^ | 11 | False killer whale, HI Pelagic.¹
American Samoa longline ² | 13 | False killer whale, American Samoa. Rough-toothed dolphin, American Samoa. Short-finned pilot whale, unknown.
|  | Striped dolphin, unknown.
HI shortline ² | 5 | None documented.
CATEGORY III
Gillnet Fisheries:
AK Kuskokwim, Yukon, Norton Sound, Kotzebue salmon gillnet | 1,778 | Harbor porpoise, Bering Sea.
AK Prince William Sound salmon set gillnet | 29 | Harbor seal, GOA. Humpback whale, Central North Pacific. Sea otter, South central AK.
|  | Steller sea lion, Western U.S.
AK roe herring and food/bait herring gillnet | 920 | None documented.
CA set gillnet (mesh size <3.5 in) | 11 | None documented.
HI inshore gillnet | 29 | Bottlenose dolphin, HI. Spinner dolphin, HI.
WA Grays Harbor salmon drift gillnet (excluding treaty Tribal fishing) | 19 | Harbor seal, OR/WA coast.
WA/OR Mainstem Columbia River eulachon gillnet | 10 | None documented.
WA/OR lower Columbia River (includes tributaries) drift gillnet | 244 | California sea lion, U.S. Harbor seal, OR/WA coast.
WA Willapa Bay drift gillnet | 57 | Harbor seal, OR/WA coast. Northern elephant seal, CA breeding.
Miscellaneous Net Fisheries:
AK Cook Inlet salmon purse seine | 83 | Humpback whale, Central North Pacific.
AK Kodiak salmon purse seine | 376 | Dall's porpoise, AK. Harbor seal, North Kodiak. Humpback whale, Central North Pacific.
|  | Humpback whale, Western North Pacific.
|  | Steller sea lion, Western U.S.
AK Southeast salmon purse seine | 315 | Humpback whale, Central North Pacific.
AK roe herring and food/bait herring beach seine | 10 | None documented.
AK roe herring and food/bait herring purse seine | 356 | None documented.
AK salmon beach seine | 31 | None documented.
AK salmon purse seine (Prince William Sound, Chignik, Alaska Peninsula) | 936 | Harbor seal, GOA. Harbor seal, Prince William Sound.
WA/OR sardine purse seine | 6 | None documented.
CA anchovy, mackerel, sardine purse seine | 53 | California sea lion, U.S. Harbor seal, CA.
CA squid purse seine | 68 | California sea lion, U.S. Long-beaked common dolphin, CA. Risso's dolphin, CA/OR/WA.
|  | Short-beaked common dolphin, CA/OR/WA.
CA tuna purse seine * | 14 | None documented.
WA/OR Lower Columbia River salmon seine | 1 | None documented.
WA/OR herring, anchovy, smelt, squid purse seine or lampara | 41 | None documented.
WA salmon seine | 81 | None documented.
WA salmon reef net | 11 | None documented.
HI lift net | 15 | None documented.
HI inshore purse seine | None recorded | None documented.
HI throw net, cast net | 15 | None documented.
HI seine net | 17 | None documented.
Dip Net Fisheries:
CA squid dip net | 19 | None documented.
Marine Aquaculture Fisheries:
CA marine shellfish aquaculture | unknown | None documented.
CA salmon enhancement rearing pen | >1 | None documented.
CA white seabass enhancement net pens | 13 | California sea lion, U.S.
HI offshore pen culture | 1 | None documented.
WA salmon net pens | 14 | California sea lion, U.S. Harbor seal, WA inland waters.
WA/OR shellfish aquaculture | 23 | None documented.
Troll Fisheries:
WA/OR/CA albacore surface hook and line/troll | 556 | None documented.
CA halibut, white seabass, and yellowtail hook and line/handline | 388 | None documented.
CA/OR/WA non-albacore HMS hook and line | 124 | None documented.
AK Bering Sea, Aleutian Islands groundfish hand troll and dinglebar troll | unknown | None documented.
AK Gulf of Alaska groundfish hand troll and dinglebar troll | unknown | None documented.
AK salmon troll | 1,908 | Steller sea lion, Eastern U.S. Steller sea lion, Western U.S.
American Samoa tuna troll | 13 | None documented.
CA/OR/WA salmon troll | 1,030 | None documented.
HI troll | 1,380 | Pantropical spotted dolphin, HI.
HI rod and reel | 237 | None documented.
Commonwealth of the Northern Mariana Islands tuna troll | 40 | None documented.
Guam tuna troll | 398 | None documented.
Longline/Set Line Fisheries:
AK Bering Sea, Aleutian Islands Greenland turbot longline | 4 | Killer whale, GOA, AI, BS transient.
AK Bering Sea, Aleutian Islands Pacific cod longline | 45 | Northern fur seal, Eastern Pacific. Steller sea lion, Western U.S.
AK Bering Sea, Aleutian Islands sablefish longline | 22 | None documented.
AK Bering Sea, Aleutian Islands halibut longline | 127 | Northern fur seal, Eastern Pacific. Sperm whale, North Pacific.
AK Gulf of Alaska halibut longline | 855 | Harbor seal, Clarence Strait. Harbor seal, Cook Inlet. Steller sea lion, Eastern U.S.
AK Gulf of Alaska Pacific cod longline | 92 | Harbor seal, Cook Inlet/Shelikof Strait. Steller sea lion, Western U.S.
AK octopus/squid longline | 3 | None documented.
AK state-managed waters longline/setline (including sablefish, rockfish, lingcod, and miscellaneous finfish) | 464 | None documented.
WA/OR/CA groundfish, bottomfish longline/set line | 314 | Bottlenose dolphin, CA/OR/WA offshore. California sea lion, U.S. Northern elephant seal, California breeding.
|  | Sperm whale, CA/OR/WA.
|  | Steller sea lion, Eastern U.S.
WA/OR/CA Pacific halibut longline | 130 | None documented.
CA pelagic longline | 4 | None documented in the most recent 5 years of data.
HI kaka line | 5 | None documented.
HI vertical line | None recorded | None documented.
Trawl Fisheries:
AK Bering Sea, Aleutian Islands Atka mackerel trawl | 13 | Harbor seal, Aleutian Islands. Northern elephant seal, California. Steller sea lion, Western U.S.
AK Bering Sea, Aleutian Islands Pacific cod trawl | 72 | Bearded seal, AK. Ribbon seal. Steller sea lion, Western U.S.
AK Bering Sea, Aleutian Islands rockfish trawl | 17 | Harbor seal, Aleutian Islands. Ribbon seal.
AK Gulf of Alaska flatfish trawl | 36 | Harbor seal, Cook Inlet/Shelikof Strait. Harbor seal, North Kodiak. Harbor seal, South Kodiak.
|  | Steller sea lion, Western U.S.
AK Gulf of Alaska Pacific cod trawl | 55 | Steller sea lion, Western U.S.
AK Gulf of Alaska pollock trawl | 67 | Steller sea lion, Western U.S.
AK Gulf of Alaska rockfish trawl | 43 | Steller sea lion, Western U.S.
AK Kodiak food/bait herring otter trawl | 4 | None documented.
AK shrimp otter trawl and beam trawl | 38 | None documented.
AK state-managed waters of Prince William Sound groundfish trawl | 2 | None documented.
CA halibut bottom trawl | 23 | California sea lion, U.S. Harbor porpoise, unknown. Harbor seal, unknown.
|  | Northern elephant seal, CA breeding.
|  | Steller sea lion, unknown.
CA sea cucumber trawl | 11 | None documented.
WA/OR/CA shrimp trawl | 130 | California sea lion, U.S.
WA/OR/CA groundfish trawl | 118 | California sea lion, U.S. Dall's porpoise, CA/OR/WA. Harbor seal, OR/WA coast.
|  | Northern elephant seal, CA breeding.
|  | Northern fur seal, Eastern Pacific.
|  | Northern right whale dolphin, CA/OR/WA.
|  | Pacific white-sided dolphin, CA/OR/WA.
|  | Steller sea lion, Eastern U.S.
Pot, Ring Net, and Trap Fisheries:
AK Bering Sea, Aleutian Islands sablefish pot | 6 | Sperm whale, North Pacific.
AK Bering Sea, Aleutian Islands crab pot | 540 | Bowhead whale, Western Arctic. Gray whale, Eastern North Pacific.
AK Gulf of Alaska crab pot | 271 | None documented.
AK Gulf of Alaska Pacific cod pot | 116 | None documented in most recent 5 years of data.
AK Gulf of Alaska sablefish pot | 248 | None documented.
AK Southeast Alaska crab pot | 375 | Humpback whale, Central North Pacific (Southeast AK).
AK Southeast Alaska shrimp pot | 99 | Humpback whale, Central North Pacific (Southeast AK).
AK shrimp pot, except Southeast | 141 | None documented.
AK octopus/squid pot | 15 | None documented.
CA rock crab pot | 113 | Gray whale, Eastern North Pacific. Harbor seal, CA.
CA other crab/shellfish pot fishery | 40 | None documented.
WA/OR/CA hagfish pot | 63 | None documented.
WA/OR/CA other groundfish pot fishery | 68 | None documented.
WA/OR shrimp pot/trap | 28 | None documented.
WA Puget Sound Dungeness crab pot/trap | 145 | None documented.
HI crab trap | 4 | Humpback whale, Central North Pacific.
HI fish trap | 4 | None documented.
HI lobster trap | None recorded | None documented in recent years.
HI shrimp trap | 3 | None documented.
HI crab net | None recorded | None documented.
HI Kona crab loop net | 20 | None documented.
Hook and Line, Handline, and Jig Fisheries:
AK Bering Sea, Aleutian Islands groundfish jig | 2 | None documented.
AK Gulf of Alaska groundfish jig | 214 | None documented in most recent 5 years of data.
AK halibut jig | 71 | None documented.
American Samoa bottomfish | 9 | None documented.
Commonwealth of the Northern Mariana Islands bottomfish | 11 | None documented.
Guam bottomfish | 67 | None documented.
HI aku boat, pole, and line | None recorded | None documented.
HI bottomfish handline | 385 | None documented in recent years.
HI inshore handline | 206 | None documented.
HI pelagic handline | 300 | None documented.
WA/OR/CA groundfish/finfish hook and line | 689 | California sea lion, U.S.
Western Pacific squid jig | 0 | None documented.
Harpoon Fisheries:
CA swordfish harpoon | 21 | None documented.
Pound Net/Weir Fisheries:
AK herring spawn on kelp pound net | 291 | None documented.
AK Southeast herring roe/food/bait pound net | 2 | None documented.
HI bullpen trap | None recorded | None documented.
Bait Pens:
WA/OR/CA bait pens | 13 | California sea lion, U.S.
Dredge Fisheries:
AK scallop dredge | 108 (5 AK) | None documented.
Dive, Hand/Mechanical Collection Fisheries:
AK clam | 130 | None documented.
AK Dungeness crab | 2 | None documented.
AK herring spawn on kelp | 266 | None documented.
AK miscellaneous invertebrates handpick | 214 | None documented.
CA/OR/WA dive collection | 186 | None documented.
CA/WA kelp, seaweed and algae | 4 | None documented.
HI black coral diving | None recorded | None documented.
HI fish pond | None recorded | None documented.
HI handpick | 25 | None documented.
HI lobster diving | 12 | None documented.
HI spearfishing | 82 | None documented.
WA/OR/CA hand/mechanical collection | 320 | None documented.
Commercial Passenger Fishing Vessel (Charter Boat) Fisheries:
AK/WA/OR/CA commercial passenger fishing vessel | >7,000 (1,006 AK) | Humpback whale, Central North Pacific. Humpback whale, Western North Pacific. Killer whale, unknown.
|  | Steller sea lion, Eastern U.S.
|  | Steller sea lion, Western U.S.
Live Finfish/Shellfish Fisheries:
HI aquarium collecting | 34 | None documented.
List of Abbreviations and Symbols Used in Table 1:
AI—Aleutian Islands; AK—Alaska; BS—Bering Sea; CA—California; ENP—Eastern North Pacific; GOA—Gulf of Alaska; HI—Hawaii; MHI—Main Hawaiian Islands; OR—Oregon; WA—Washington;
¹ Fishery classified based on mortalities and serious injuries of this stock, which are greater than or equal to 50 percent (Category I) or greater than 1 percent and less than 50 percent (Category II) of the stock's PBR;
² Fishery classified by analogy;
* Fishery has an associated high seas component listed in Table 3; and
^ The list of marine mammal species and/or stocks killed or injured in this fishery is identical to the list of species and/or stocks killed or injured in high seas component of the fishery, minus species and/or stocks that have geographic ranges exclusively on the high seas. The species and/or stocks are found, and the fishery remains the same, on both sides of the EEZ boundary. Therefore, the EEZ components of these fisheries pose the same risk to marine mammals as the components operating on the high seas.

Table 2—List of Fisheries—Commercial Fisheries in the Atlantic Ocean, Gulf of Mexico, and Caribbean
Fishery description | Estimated number of vessels/ persons | Marine mammal species and/or stocks incidentally killed or injured
CATEGORY I
Gillnet Fisheries:
Mid-Atlantic gillnet | 4,020 | Bottlenose dolphin, Northern Migratory coastal. Bottlenose dolphin, Southern Migratory coastal.¹ Bottlenose dolphin, Northern NC estuarine system.¹ Bottlenose dolphin, Southern NC estuarine system.¹
|  | Bottlenose dolphin, WNA offshore.
|  | Common dolphin, WNA.
|  | Gray seal, WNA.
|  | Harbor porpoise, GME/BF.
|  | Harbor seal, WNA.
|  | Hooded seal, WNA.
|  | Humpback whale, Gulf of Maine.
|  | Minke whale, Canadian east coast.
Northeast sink gillnet | 4,072 | Bottlenose dolphin, Northern Migratory coastal.
|  | Bottlenose dolphin, WNA offshore.
|  | Common dolphin, WNA.
|  | Fin whale, WNA.
|  | Gray seal, WNA.¹
|  | Harbor porpoise, GME/BF.
|  | Harbor seal, WNA.
|  | Harp seal, WNA.
|  | Humpback whale, Gulf of Maine.
|  | Minke whale, Canadian east coast.
|  | North Atlantic right whale, WNA.
|  | Risso's dolphin, WNA.
|  | White-sided dolphin, WNA.
Trap/Pot Fisheries:
Northeast/Mid-Atlantic American lobster trap/pot | 8,485 | Humpback whale, Gulf of Maine. Minke whale, Canadian east coast. North Atlantic right whale, WNA.¹
Longline Fisheries:
Atlantic Ocean, Caribbean, Gulf of Mexico large pelagics longline * | 201 | Atlantic spotted dolphin, Northern GMX. Bottlenose dolphin, Northern GMX oceanic. Bottlenose dolphin, WNA offshore. Common dolphin, WNA.
|  | Cuvier's beaked whale, WNA.
|  | False killer whale, WNA.
|  | Harbor porpoise, GME, BF.
|  | Kogia spp. (Pygmy or dwarf sperm whale), WNA.
|  | Long-finned pilot whale, WNA.
|  | Mesoplodon beaked whale, WNA.
|  | Minke whale, Canadian East coast.
|  | Pantropical spotted dolphin, Northern GMX.
|  | Pygmy sperm whale, GMX.
|  | Risso's dolphin, Northern GMX.
|  | Risso's dolphin, WNA.
|  | Rough-toothed dolphin, Northern GMX.
|  | Short-finned pilot whale, Northern GMX.
|  | Short-finned pilot whale, WNA.¹
|  | Sperm whale, Northern GMX.
CATEGORY II
Gillnet Fisheries:
Chesapeake Bay inshore gillnet ² | 265 | Bottlenose dolphin, unknown (Northern migratory coastal or Southern migratory coastal).
Gulf of Mexico gillnet ² | 248 | Bottlenose dolphin, Eastern GMX coastal. Bottlenose dolphin, GMX bay, sound, and estuarine.
|  | Bottlenose dolphin, Mobile Bay, Bonsecour Bay.
|  | Bottlenose dolphin, Northern GMX coastal.
|  | Bottlenose dolphin, Western GMX coastal.
NC inshore gillnet | 2,676 | Bottlenose dolphin, Northern NC estuarine system.¹ Bottlenose dolphin, Southern NC estuarine system.¹
Northeast anchored float gillnet ² | 852 | Harbor seal, WNA. Humpback whale, Gulf of Maine. White-sided dolphin, WNA.
Northeast drift gillnet ² | 1,036 | None documented.
Southeast Atlantic gillnet ² | 273 | Bottlenose dolphin, Central FL coastal. Bottlenose dolphin, Northern FL coastal.
|  | Bottlenose dolphin, SC/GA coastal.
|  | Bottlenose dolphin, Southern migratory coastal.
Southeastern U.S. Atlantic shark gillnet | 21 | Bottlenose dolphin, unknown (Central FL, Northern FL, SC/GA coastal, or Southern migratory coastal).
|  | North Atlantic right whale, WNA.
Trawl Fisheries:
Mid-Atlantic mid-water trawl (including pair trawl) | 320 | Bottlenose dolphin, WNA offshore. Harbor seal, WNA.
Mid-Atlantic bottom trawl | 633 | Bottlenose dolphin, WNA offshore.¹ Common dolphin, WNA.¹
|  | Gray seal, WNA.¹
|  | Harbor seal, WNA.
|  | Risso's dolphin, WNA.¹
|  | White-sided dolphin, WNA.
Northeast mid-water trawl (including pair trawl) | 542 | Common dolphin, WNA. Gray seal, WNA. Harbor seal, WNA.
|  | Long-finned pilot whale, WNA.¹
Northeast bottom trawl | 968 | Bottlenose dolphin, WNA offshore.¹ Common dolphin, WNA.
|  | Gray seal, WNA.¹
|  | Harbor porpoise, GME/BF.
|  | Harbor seal, WNA.
|  | Harp seal, WNA.
|  | Long-finned pilot whale, WNA.¹
|  | Risso's dolphin, WNA.¹
|  | White-sided dolphin, WNA.¹
Southeastern U.S. Atlantic, Gulf of Mexico shrimp trawl | 10,824 | Atlantic spotted dolphin, Northern Gulf of Mexico. Bottlenose dolphin, Charleston estuarine system.
|  | Bottlenose dolphin, Eastern GMX coastal.¹
|  | Bottlenose dolphin, GMX bay, sound, estuarine.¹
|  | Bottlenose dolphin, GMX continental shelf.
|  | Bottlenose dolphin, Mississippi River Delta.
|  | Bottlenose dolphin, Mobile Bay, Bonsecour Bay.
|  | Bottlenose dolphin, Northern GMX coastal.¹
|  | Bottlenose dolphin, Pensacola Bay, East Bay.
|  | Bottlenose dolphin, Perdido Bay.
|  | Bottlenose dolphin, SC/GA coastal.¹
|  | Bottlenose dolphin, Southern migratory coastal.
|  | Bottlenose dolphin, Western GMX coastal.¹
Trap/Pot Fisheries:
MA mixed species trap/pot | 1,240 | None documented.
Southeastern U.S. Atlantic, Gulf of Mexico stone crab trap/pot ² | 1,101 | Bottlenose dolphin, Biscayne Bay estuarine. Bottlenose dolphin, Central FL coastal. Bottlenose dolphin, Eastern GMX coastal.
|  | Bottlenose dolphin, FL Bay.
|  | Bottlenose dolphin, GMX bay, sound, estuarine (FL west coast portion).
|  | Bottlenose dolphin, Indian River Lagoon estuarine system.
|  | Bottlenose dolphin, Jacksonville estuarine system.
|  | Bottlenose dolphin, Northern GMX coastal.
|  | Bottlenose dolphin, Sarasota Bay, Little Sarasota Bay.
Atlantic mixed species trap/pot ² | 3,493 | Fin whale, WNA. Humpback whale, Gulf of Maine.
Atlantic blue crab trap/pot | 6,679 | Bottlenose dolphin, Central FL coastal. Bottlenose dolphin, Central GA estuarine system.¹
|  | Bottlenose dolphin, Charleston estuarine system.¹
|  | Bottlenose dolphin, Indian River Lagoon estuarine system.
|  | Bottlenose dolphin, Jacksonville estuarine system.
|  | Bottlenose dolphin, Northern FL coastal.¹
|  | Bottlenose dolphin, Northern GA/Southern SC estuarine system.
|  | Bottlenose dolphin, Northern Migratory coastal.
|  | Bottlenose dolphin, Northern NC estuarine system.¹
|  | Bottlenose dolphin, Northern SC estuarine system.
|  | Bottlenose dolphin, SC/GA coastal.
|  | Bottlenose dolphin, Southern GA estuarine system.
|  | Bottlenose dolphin, Southern Migratory coastal.¹
|  | Bottlenose dolphin, Southern NC estuarine system.
|  | West Indian manatee, FL.
Purse Seine Fisheries:
Gulf of Mexico menhaden purse seine | 40-42 | Bottlenose dolphin, GMX bay, sound, estuarine. Bottlenose dolphin, Mississippi River Delta.
|  | Bottlenose dolphin, Mississippi Sound, Lake Borgne, Bay Boudreau.
|  | Bottlenose dolphin, Northern GMX coastal.¹
|  | Bottlenose dolphin, Western GMX coastal.¹
Mid-Atlantic menhaden purse seine ² | 17 | Bottlenose dolphin, Northern Migratory coastal.
|  | Bottlenose dolphin, Southern Migratory coastal.
Haul/Beach Seine Fisheries:
Mid-Atlantic haul/beach seine | 359 | Bottlenose dolphin, Northern Migratory coastal.¹ Bottlenose dolphin, Northern NC estuarine system.¹
|  | Bottlenose dolphin, Southern Migratory coastal.¹
NC long haul seine | 22 | Bottlenose dolphin, Northern NC estuarine system.¹
|  | Bottlenose dolphin, Southern NC estuarine system.
Stop Net Fisheries:
NC roe mullet stop net | 1 | Bottlenose dolphin, Northern NC estuarine system. Bottlenose dolphin, unknown (Southern migratory coastal or Southern NC estuarine system).
Pound Net Fisheries:
VA pound net | 20 | Bottlenose dolphin, Northern migratory coastal.
|  | Bottlenose dolphin, Northern NC estuarine system.
|  | Bottlenose dolphin, Southern Migratory coastal.¹
CATEGORY III
Gillnet Fisheries:
Caribbean gillnet | 127 | None documented in the most recent 5 years of data.
DE River inshore gillnet | unknown | None documented in the most recent 5 years of data.
Long Island Sound inshore gillnet | unknown | None documented in the most recent 5 years of data.
RI, southern MA (to Monomoy Island), and NY Bight (Raritan and Lower NY Bays) inshore gillnet | unknown | None documented in the most recent 5 years of data.
Southeast Atlantic inshore gillnet | unknown | Bottlenose dolphin, Northern SC estuarine system.
Trawl Fisheries:
Atlantic shellfish bottom trawl | >58 | None documented.
Gulf of Mexico butterfish trawl | 2 | Bottlenose dolphin, Northern GMX oceanic. Bottlenose dolphin, Northern GMX continental shelf.
Gulf of Mexico mixed species trawl | 20 | None documented.
GA cannonball jellyfish trawl | 1 | Bottlenose dolphin, SC/GA coastal.
Marine Aquaculture Fisheries:
Finfish aquaculture | 48 | Harbor seal, WNA.
Shellfish aquaculture | unknown | None documented.
Purse Seine Fisheries:
Gulf of Maine Atlantic herring purse seine | >7 | Harbor seal, WNA.
Gulf of Maine menhaden purse seine | >2 | None documented.
FL West Coast sardine purse seine | 10 | Bottlenose dolphin, Eastern GMX coastal.
U.S. Atlantic tuna purse seine * | 5 | None documented in most recent 5 years of data.
Longline/Hook and Line Fisheries:
Northeast/Mid-Atlantic bottom longline/hook-and-line | >1,207 | None documented.
Gulf of Maine, U.S. Mid-Atlantic tuna, shark, swordfish hook-and-line/harpoon | 2,846 | Humpback whale, Gulf of Maine.
Southeastern U.S. Atlantic, Gulf of Mexico, and Caribbean snapper-grouper and other reef fish bottom longline/hook-and-line | >5,000 | Bottlenose dolphin, GMX continental shelf.
Southeastern U.S. Atlantic, Gulf of Mexico shark bottom longline/hook-and-line | 39 | Bottlenose dolphin, Eastern GMX coastal. Bottlenose dolphin, Northern GMX continental shelf.
Southeastern U.S. Atlantic, Gulf of Mexico, and Caribbean pelagic hook-and-line/harpoon | 680 | None documented.
U.S. Atlantic, Gulf of Mexico trotline | unknown | None documented.
Trap/Pot Fisheries:
Caribbean mixed species trap/pot | 154 | Bottlenose dolphin, Puerto Rico and United States Virgin Islands.
Caribbean spiny lobster trap/pot | 40 | None documented.
FL spiny lobster trap/pot | 1,268 | Bottlenose dolphin, Biscayne Bay estuarine. Bottlenose dolphin, Central FL coastal.
|  | Bottlenose dolphin, Eastern GMX coastal.
|  | Bottlenose dolphin, FL Bay estuarine.
|  | Bottlenose dolphin, FL Keys.
Gulf of Mexico blue crab trap/pot | 4,113 | Bottlenose dolphin, Barataria Bay. Bottlenose dolphin, Eastern GMX coastal.
|  | Bottlenose dolphin, GMX bay, sound, estuarine.
|  | Bottlenose dolphin, Mississippi Sound, Lake Borgne, Bay Boudreau.
|  | Bottlenose dolphin, Mobile Bay, Bonsecour Bay.
|  | Bottlenose dolphin, Northern GMX coastal.
|  | Bottlenose dolphin, Western GMX coastal.
|  | West Indian manatee, FL.
Gulf of Mexico mixed species trap/pot | unknown | None documented.
Southeastern U.S. Atlantic, Gulf of Mexico golden crab trap/pot | 10 | None documented.
U.S. Mid-Atlantic eel trap/pot | unknown | None documented.
Stop Seine/Weir/Pound Net/Floating Trap/Fyke Net Fisheries:
Gulf of Maine herring and Atlantic mackerel stop seine/weir | >1 | Harbor porpoise, GME/BF. Harbor seal, WNA. Minke whale, Canadian east coast.
|  | Atlantic white-sided dolphin, WNA.
U.S. Mid-Atlantic crab stop seine/weir | 2,600 | None documented.
U.S. Mid-Atlantic mixed species stop seine/weir/pound net (except the NC roe mullet stop net) | unknown | Bottlenose dolphin, Northern NC estuarine system.
RI floating trap | 9 | None documented.
Northeast and Mid-Atlantic fyke net | unknown | None documented.
Dredge Fisheries:
Gulf of Maine sea urchin dredge | unknown | None documented.
Gulf of Maine mussel dredge | unknown | None documented.
Gulf of Maine, U.S. Mid-Atlantic sea scallop dredge | >403 | None documented.
Mid-Atlantic blue crab dredge | unknown | None documented.
Mid-Atlantic soft-shell clam dredge | unknown | None documented.
Mid-Atlantic whelk dredge | unknown | None documented.
U.S. Mid-Atlantic/Gulf of Mexico oyster dredge | 7,000 | None documented.
New England and Mid-Atlantic offshore surf clam/quahog dredge | unknown | None documented.
Haul/Beach Seine Fisheries:
Caribbean haul/beach seine | 38 | West Indian manatee, Puerto Rico.
Gulf of Mexico haul/beach seine | unknown | None documented.
Southeastern U.S. Atlantic haul/beach seine | 25 | None documented.
Dive, Hand/Mechanical Collection Fisheries:
Atlantic Ocean, Gulf of Mexico, Caribbean shellfish dive, hand/mechanical collection | 20,000 | None documented.
Gulf of Maine urchin dive, hand/mechanical collection | unknown | None documented.
Gulf of Mexico, Southeast Atlantic, Mid-Atlantic, and Caribbean cast net | unknown | None documented.
Commercial Passenger Fishing Vessel (Charter Boat) Fisheries:
Atlantic Ocean, Gulf of Mexico, Caribbean commercial passenger fishing vessel | 4,000 | Bottlenose dolphin, Barataria Bay estuarine system. Bottlenose dolphin, Biscayne Bay estuarine. Bottlenose dolphin, Central FL coastal.
|  | Bottlenose dolphin, Choctawhatchee Bay.
|  | Bottlenose dolphin, Eastern GMX coastal.
|  | Bottlenose dolphin, FL Bay.
|  | Bottlenose dolphin, GMX bay, sound, estuarine.
|  | Bottlenose dolphin, Indian River Lagoon estuarine system.
|  | Bottlenose dolphin, Jacksonville estuarine system.
|  | Bottlenose dolphin, Mississippi Sound, Lake Borgne, Bay Boudreau.
|  | Bottlenose dolphin, Northern FL coastal.
|  | Bottlenose dolphin, Northern GA/Southern SC estuarine.
|  | Bottlenose dolphin, Northern GMX coastal.
|  | Bottlenose dolphin, Northern migratory coastal.
|  | Bottlenose dolphin, Northern NC estuarine.
|  | Bottlenose dolphin, Southern migratory coastal.
|  | Bottlenose dolphin, Southern NC estuarine system.
|  | Bottlenose dolphin, SC/GA coastal.
|  | Bottlenose dolphin, Western GMX coastal.
|  | Short-finned pilot whale, WNA.
List of Abbreviations and Symbols Used in Table 2:
DE—Delaware; FL—Florida; GA—Georgia; GME/BF—Gulf of Maine/Bay of Fundy; GMX—Gulf of Mexico; MA—Massachusetts; NC—North Carolina; NY—New York; RI—Rhode Island; SC—South Carolina; VA—Virginia; WNA—Western North Atlantic;
¹ Fishery classified based on mortalities and serious injuries of this stock, which are greater than or equal to 50 percent (Category I) or greater than 1 percent and less than 50 percent (Category II) of the stock's PBR;
² Fishery classified by analogy; and
* Fishery has an associated high seas component listed in Table 3.

Table 3—List of Fisheries—Commercial Fisheries on the High Seas
Fishery description | Number of HSFCA permits | Marine mammal species and/or stocks incidentally killed or injured
CATEGORY I
Longline Fisheries:
Atlantic Highly Migratory Species * | 39 | Atlantic spotted dolphin, WNA. Bottlenose dolphin, Northern GMX oceanic. Bottlenose dolphin, WNA offshore. Common dolphin, WNA. Cuvier's beaked whale, WNA. False killer whale, WNA. Killer whale, GMX oceanic. Kogia spp. whale (Pygmy or dwarf sperm whale), WNA. Long-finned pilot whale, WNA. Mesoplodon beaked whale, WNA. Minke whale, Canadian East coast. Pantropical spotted dolphin, WNA. Risso's dolphin, GMX. Risso's dolphin, WNA. Short-finned pilot whale, WNA.
Western Pacific Pelagic (HI Deep-set component) * ^ | 143 | Bottlenose dolphin, HI Pelagic. False killer whale, HI Pelagic. Kogia spp. (Pygmy or dwarf sperm whale), HI. Risso's dolphin, HI. Short-finned pilot whale, HI. Striped dolphin, HI.
CATEGORY II
Drift Gillnet Fisheries:
Pacific Highly Migratory Species * ^ | 5 | Long-beaked common dolphin, CA. Humpback whale, CA/OR/WA. Northern right-whale dolphin, CA/OR/WA. Pacific white-sided dolphin, CA/OR/WA. Risso's dolphin, CA/OR/WA. Short-beaked common dolphin, CA/OR/WA.
Trawl Fisheries:
Atlantic Highly Migratory Species ** | 1 | No information.
CCAMLR | 0 | Antarctic fur seal.
Purse Seine Fisheries:
Western and Central Pacific Ocean Tuna Purse Seine | 20 | Bottlenose dolphin, HI Pelagic. Blue whale, unknown. Bryde's whale, HI. False killer whale, HI Pelagic. Fin whale, HI. Humpback whale, unknown. Indo-Pacific dolphin. Long-beaked common dolphin, CA. Melon-headed whale, unknown. Minke whale, HI. Pantropical spotted dolphin, unknown. Pygmy killer whale, HI. Risso's dolphin, unknown. Rough-toothed dolphin, unknown. Sei whale, HI. Short-finned pilot whale, unknown. Sperm whale, HI. Spinner dolphin, unknown.
Western Pacific Pelagic | 1 | No information.
Longline Fisheries:
CCAMLR | 0 | None documented.
South Pacific Albacore Troll | 6 | No information.
Western Pacific Pelagic (HI Shallow-set component) * ^ | 11 | Bottlenose dolphin, HI Pelagic. False killer whale, HI Pelagic. Fin whale, HI. Ginkgo-toothed beaked whale. Guadalupe fur seal. Humpback whale, Central North Pacific. Northern elephant seal, CA breeding. Risso's dolphin, HI. Short-beaked common dolphin, CA/OR/WA. Striped dolphin, HI.
Handline/Pole and Line Fisheries:
Atlantic Highly Migratory Species | 1 | No information.
Pacific Highly Migratory Species | 44 | No information.
South Pacific Albacore Troll | 9 | No information.
Western Pacific Pelagic | 5 | No information.
Troll Fisheries:
Atlantic Highly Migratory Species | 0 | No information.
South Pacific Albacore Troll | 20 | No information.
South Pacific Tuna Fisheries ** | 0 | No information.
Western Pacific Pelagic | 6 | No information.
CATEGORY III
Longline Fisheries:
Northwest Atlantic Bottom Longline | 2 | None documented.
Pacific Highly Migratory Species | 111 | None documented in the most recent 5 years of data.
Purse Seine Fisheries:
Pacific Highly Migratory Species * ^ | 5 | None documented.
Trawl Fisheries:
Northwest Atlantic | 4 | None documented.
Troll Fisheries:
Pacific Highly Migratory Species * | 107 | None documented.
List of Terms, Abbreviations, and Symbols Used in Table 3:
CA—California; GMX—Gulf of Mexico; HI—Hawaii; OR—Oregon; WA—Washington; WNA—Western North Atlantic;
* Fishery is an extension/component of an existing fishery operating within U.S. waters listed in Table 1 or 2. The number of permits listed in Table 3 represents only the number of permits for the high seas component of the fishery;
** These gear types are not authorized under the Pacific HMS FMP (2004), the Atlantic HMS FMP (2006), or without a South Pacific Tuna Treaty license (in the case of the South Pacific Tuna fisheries). Because HSFCA permits are valid for 5 years, permits obtained in past years exist in the HSFCA permit database for gear types that are now unauthorized. Therefore, while HSFCA permits exist for these gear types, it does not represent effort. In order to land fish species, fishers must be using an authorized gear type. Once these permits for unauthorized gear types expire, the permit-holder will be required to obtain a permit for an authorized gear type; and
^ The list of marine mammal species and/or stocks killed or injured in this fishery is identical to the list of marine mammal species and/or stocks killed or injured in U.S. waters component of the fishery, minus species and/or stocks that have geographic ranges exclusively in coastal waters, because the marine mammal species and/or stocks are also found on the high seas and the fishery remains the same on both sides of the EEZ boundary. Therefore, the high seas components of these fisheries pose the same risk to marine mammals as the components of these fisheries operating in U.S. waters.

Table 4—Fisheries Affected by Take Reduction Teams and Plans
Take reduction plans | Affected fisheries
Atlantic Large Whale Take Reduction Plan (ALWTRP)—50 CFR 229.32 | Category I Mid-Atlantic gillnet. Northeast/Mid-Atlantic American lobster trap/pot. Northeast sink gillnet. Category II Atlantic blue crab trap/pot. Atlantic mixed species trap/pot. MA mixed species trap/pot. Northeast anchored float gillnet. Northeast drift gillnet. Southeast Atlantic gillnet. Southeastern U.S. Atlantic shark gillnet.* Southeastern, U.S. Atlantic, Gulf of Mexico stone crab trap/pot. ^
Bottlenose Dolphin Take Reduction Plan (BDTRP)—50 CFR 229.35 | Category I Mid-Atlantic gillnet. Category II Atlantic blue crab trap/pot. Chesapeake Bay inshore gillnet fishery. Mid-Atlantic haul/beach seine. Mid-Atlantic menhaden purse seine. NC inshore gillnet. NC long haul seine. NC roe mullet stop net. Southeast Atlantic gillnet. Southeastern U.S. Atlantic shark gillnet. Southeastern U.S. Atlantic, Gulf of Mexico shrimp trawl. ^ Southeastern, U.S. Atlantic, Gulf of Mexico stone crab trap/pot. ^ VA pound net.
False Killer Whale Take Reduction Plan (FKWTRP)—50 CFR 229.37 | Category I HI deep-set longline. Category II HI shallow-set longline.
Harbor Porpoise Take Reduction Plan (HPTRP)—50 CFR 229.33 (New England) and 229.34 (Mid-Atlantic) | Category I Mid-Atlantic gillnet. Northeast sink gillnet.
Pelagic Longline Take Reduction Plan (PLTRP)—50 CFR 229.36 | Category I Atlantic Ocean, Caribbean, Gulf of Mexico large pelagics longline.
Pacific Offshore Cetacean Take Reduction Plan (POCTRP)—50 CFR 229.31 | Category II CA thresher shark/swordfish drift gillnet (≥14 in mesh).
Atlantic Trawl Gear Take Reduction Team (ATGTRT) | Category II Mid-Atlantic bottom trawl. Mid-Atlantic mid-water trawl (including pair trawl). Northeast bottom trawl. Northeast mid-water trawl (including pair trawl).
List of Symbols Used in Table 4:
* Only applicable to the portion of the fishery operating in U.S. waters; and
^ Only applicable to the portion of the fishery operating in the Atlantic Ocean.

Classification

The Chief Counsel for Regulation of the Department of Commerce has certified to the Chief Counsel for Advocacy of the Small Business Administration (SBA) that this proposed rule would not have a significant economic impact on a substantial number of small entities. Any entity with combined annual fishery landing receipts less than $11 million is considered a small entity for purposes of the Regulatory Flexibility Act. Under the size standard, all entities subject to this action were considered small entities; thus, they all would continue to be considered small under the new standards.

Under existing regulations, all individuals participating in Category I or II fisheries must register under the MMPA and obtain an authorization certificate. The authorization certificate authorizes the taking of non-endangered and non-threatened marine mammals incidental to commercial fishing operations. Additionally, individuals may be subject to a TRP and requested to carry an observer. NMFS has estimated that up to approximately 55,502 fishing vessels, most with annual revenues below the SBA's small entity thresholds, may operate in Category I or II fisheries. As fishing vessels operating in Category I or II fisheries, they are required to register with NMFS. The MMPA registration process is integrated with existing state and Federal licensing, permitting, and registration programs. Therefore, individuals who have a state or Federal fishing permit or landing license, or who are authorized through another related state or Federal fishery registration program, are currently not required to register separately under the MMPA or pay the $25 registration fee. Through this integrated process, registration under the MMPA, including the $25 registration fee, is only required for vessels participating in a Category I or II non-permitted fishery. All Category I and II fisheries listed on the 2022 proposed LOF are permitted through state or Federal processes, and registration under the MMPA is covered through the integrated process. Therefore, this proposed rule would not impose any direct costs on small entities.

The MMPA requires any vessel owner or operator participating in a fishery listed on the LOF to report to NMFS, within 48 hours of the end of the fishing trip, all marine mammal incidental mortalities and injuries that occur during commercial fishing operations. These marine mammal mortalities and injuries are reported using a postage-paid, Office of Management and Budget (OMB) approved form (OMB Control Number 0648-0292). This postage-paid form requires less than 15 minutes to complete and can be dropped in any mailbox, faxed, emailed, or completed online within 48 hours of the vessels return to port. Therefore, record keeping and reporting costs associated with this LOF are minimal and would not have a significant impact on a substantial number of small entities.

If a vessel is requested to carry an observer, vessels will not incur any direct economic costs associated with carrying that observer. As a result of this certification, an initial regulatory flexibility analysis is not required and none has been prepared. In the event that reclassification of a fishery to Category I or II results in a TRP, economic analyses of the effects of that TRP would be summarized in subsequent rulemaking actions.

This proposed rule contains existing collection-of-information (COI) requirements subject to the Paperwork Reduction Act and would not impose additional or new COI requirements. The COI for the registration of individuals under the MMPA has been approved by the OMB under OMB Control Number 0648-0293 (0.15 hours per report for new registrants). The requirement for reporting marine mammal mortalities or injuries has been approved by OMB under OMB Control Number 0648-0292 (0.15 hours per report). These estimates include the time for reviewing instructions, searching existing data sources, gathering and maintaining the data needed, and completing and reviewing the COI. Send comments regarding these reporting burden estimates or any other aspect of the COI, including suggestions for reducing burden, to NMFS (see ADDRESSES). You may also submit comments on these or any other aspects of the collection of information at www.reginfo.gov/public/do/PRAMain.

Notwithstanding any other provision of law, no person is required to respond to, nor shall a person be subject to a penalty for failure to comply with a COI, subject to the requirements of the Paperwork Reduction Act, unless that COI displays a currently valid OMB control number.

This proposed rule has been determined to be not significant for the purposes of Executive Orders 12866 and 13563.

In accordance with the Companion Manual for NOAA Administrative Order (NAO) 216-6A, NMFS preliminarily determined that publishing this proposed LOF qualifies to be categorically excluded from further NEPA review, consistent with categories of activities identified in Categorical Exclusion G7 (“Preparation of policy directives, rules, regulations, and guidelines of an administrative, financial, legal, technical, or procedural nature, or for which the environmental effects are too broad, speculative or conjectural to lend themselves to meaningful analysis and will be subject later to the NEPA process, either collectively or on a case-by-case basis”) of the Companion Manual and we have not identified any extraordinary circumstances listed in Chapter 4 of the Companion Manual for NAO 216-6A that would preclude application of this categorical exclusion. If NMFS takes a management action, for example, through the development of a TRP, NMFS would first prepare an Environmental Impact Statement or Environmental Assessment, as required under NEPA, specific to that action.

This proposed rule would not affect species listed as threatened or endangered under the ESA or their associated critical habitat. The impacts of numerous fisheries have been analyzed in various biological opinions, and this proposed rule will not affect the conclusions of those opinions. The classification of fisheries on the LOF is not considered to be a management action that would adversely affect threatened or endangered species. If NMFS takes a management action, for example, through the development of a TRP, NMFS would consult under ESA section 7 on that action.

This proposed rule would have no adverse impacts on marine mammals and may have a positive impact on marine mammals by improving knowledge of marine mammals and the fisheries interacting with marine mammals through information collected from observer programs, stranding and sighting data, or take reduction teams.

This proposed rule would not affect the land or water uses or natural resources of the coastal zone, as specified under section 307 of the Coastal Zone Management Act.

References

Carretta, J.V., E. Oleson, K.A. Forney, J. Baker, J.E. Moore, D.W. Weller, A.R. Lang, M.M. Muto, B. Hanson, A.J. Orr, H. Huber, M.S. Lowry, J. Barlow, D. Lynch, L. Carswell, and R.L. Brownell Jr. 2021. U.S. Pacific Marine Mammal Stock Assessments: 2020. U.S. Department of Commerce, NOAA Technical Memorandum NMFS-SWFSC-646. 394 p.

Carretta, J.V., J. Greenman, K. Wilkinson, J. Freed, L. Saez, D. Lawson, J. Viezbicke, and J. Jannot. 2021. Sources of human-related injury and mortality for U.S. Pacific west coast marine mammal stock assessments, 2015-2019. Draft reviewed by the Pacific Scientific Review Group in March, 2021. 162 p.

Carretta, J.V., B. Delean, V. Helker, M.M. Muto, J. Greenman, K. Wilkinson, D. Lawson, J. Viezbicke, and J. Jannot. 2020. Sources of Human-Related Injury and Mortality for U.S. Pacific West Coast Marine Mammal Stock Assessments, 2014-2018, U.S. Department of Commerce, NOAA Technical Memorandum NMFS-SWFSC631. 147 p.

Hayes, S.A., Josephson, E., Maze-Foley, K., Rosel, P.E., editors. 2021. U.S. Atlantic and Gulf of Mexico Marine Mammal Stock Assessments 2020. U.S. Department of Commerce. 399 p.

Hayes, S.A., Josephson, E., Maze-Foley, K., Rosel, P.E., editors. 2019. U.S. Atlantic and Gulf of Mexico Marine Mammal Stock Assessments 2018. NOAA Tech Memo NMFS-NE-258, 298 p.

Muto, M.M., V.T. Helker, B.J. Delean, N.C. Young, J.C. Freed R.P. Angliss, P.L. Boveng, J.M. Breiwick, B.M. Brost, M.F. Cameron, P.J. Clapham, J.L. Crance, S.P. Dahle, M.E. Dahlheim, B.S. Fadely, M.C. Ferguson, L.W. Fritz, K.T. Goetz, R.C. Hobbs, Y.V. Ivashchenko, A.S. Kennedy, J.M. London, S.A. Mizroch, R.R. Ream, E.L. Richmond, K.E.W. Shelden, K.L. Sweeney, R.G. Towell, P.R. Wade, J.M. Waite, and Alexandre N. Zerbini. 2021. Alaska Marine Mammal Stock Assessments 2020. U.S. Department of Commerce, NOAA Tech. Memo. NMFS-AFSC-421. 398 p.

Young, N.C., B.J. Delean, V.T. Helker, J.C. Freed, M.M. Muto, K. Savage, S. Teerlink, L.A. Jemison, K. Wilkinson, and J.E. Jannot. 2020. Human-caused mortality and injury of NMFS-managed Alaska marine mammal stocks, 2014-2018. U.S. Dep. Commer., NOAA Tech. Memo.NMFS-AFSC-413, 142 p.

Dated: July 30, 2021.
Samuel D. Rauch, III,
Deputy Assistant Administrator for Regulatory Programs, National Marine Fisheries Service.

[FR Doc. 2021-16653 Filed 8-6-21; 8:45 am]

BILLING CODE 3510-22-P